NUCLEAR REGULATORY COMMISSION

10 CFR Parts 170 and 171

[NRC-2020-0031]

RIN 3150-AK44

Revision of Fee Schedules; Fee Recovery for Fiscal Year 2022

AGENCY: Nuclear Regulatory Commission.

ACTION: Final rule.

SUMMARY: The U.S. Nuclear Regulatory Commission (NRC) is amending the licensing, inspection, special project, and annual fees charged to its applicants and licensees. These amendments are necessary to implement the Nuclear Energy Innovation and Modernization Act, which requires the NRC to recover, to the maximum extent practicable, approximately 100 percent of its annual budget less certain amounts excluded from this fee-recovery requirement.

DATES: This final rule is effective on August 22, 2022.

ADDRESSES: Please refer to Docket ID NRC-2020-0031 when contacting the NRC about the availability of information for this action. You may obtain publicly-available information related to this action by any of the following methods:

• Federal Rulemaking Website: Go to https://www.regulations.gov and search for Docket ID NRC-2020-0031.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209 or 301-415-4737, or by email to pdr.resource@nrc.gov. For the convenience of the reader, the ADAMS accession numbers are provided in the “Availability of Documents” section of this document.

• NRC's PDR: You may examine and purchase copies of public documents, by appointment, at the NRC's PDR, Room P1 B35, One White Flint North, 11555 Rockville Pike, Rockville, Maryland 20852. To make an appointment to visit the PDR, please send an email to pdr.resource@nrc.gov or call 1-800-397-4209 or 301-415-4737, between 8 a.m. and 4 p.m. (ET), Monday through Friday, except Federal holidays.

FOR FURTHER INFORMATION CONTACT: Anthony Rossi, Office of the Chief Financial Officer, U.S. Nuclear Regulatory Commission, Washington, DC 20555-0001, telephone: 301-415-7341; email: Anthony.Rossi@nrc.gov.

SUPPLEMENTARY INFORMATION:

Table of Contents

I. Background; Statutory Authority

II. Discussion

III. Public Comment Analysis

IV. Public Comments and NRC Responses

V. Regulatory Flexibility Certification

VI. Regulatory Analysis

VII. Backfitting and Issue Finality

VIII. Plain Writing

IX. National Environmental Policy Act

X. Paperwork Reduction Act

Public Protection Notification

XI. Congressional Review Act

XII. Voluntary Consensus Standards

XIII. Availability of Guidance

XIV. Availability of Documents

I. Background; Statutory Authority

The NRC's fee regulations are primarily governed by two laws: (1) the Independent Offices Appropriation Act, 1952 (IOAA) (31 U.S.C. 9701), and (2) the Nuclear Energy Innovation and Modernization Act (NEIMA) (42 U.S.C. 2215). The IOAA authorizes and encourages Federal agencies to recover, to the fullest extent possible, costs attributable to services provided to identifiable recipients. Under NEIMA, the NRC must recover, to the maximum extent practicable, approximately 100 percent of its annual budget, less the budget authority for excluded activities. Under Section 102(b)(1)(B) of NEIMA, “excluded activities” include any fee-relief activity as identified by the Commission, generic homeland security activities, waste incidental to reprocessing activities, Nuclear Waste Fund activities, advanced reactor regulatory infrastructure activities, Inspector General services for the Defense Nuclear Facilities Safety Board, research and development at universities in areas relevant to the NRC's mission, and a nuclear science and engineering grant program.

In fiscal year (FY) 2022, the fee-relief activities identified by the Commission are consistent with prior fee rules and include Agreement State oversight, regulatory support to Agreement States, medical isotope production infrastructure, fee exemptions for non-profit educational institutions, costs not recovered from small entities under § 171.16(c) of title 10 of the Code of Federal Regulations (10 CFR), generic decommissioning/reclamation activities, the NRC's uranium recovery program and unregistered general licenses, potential U.S. Department of Defense Program Memorandum of Understanding activities (Military Radium-226), and non-military radium sites. In addition, the resources for import and export licensing are identified as a fee-relief activity to be excluded from the fee-recovery requirement.

Under NEIMA, the NRC must use its IOAA authority first to collect service fees for NRC work that provides specific benefits to identifiable recipients (such as licensing work, inspections, and special projects). The NRC's regulations in 10 CFR part 170, “Fees for Facilities, Materials, Import and Export Licenses, and Other Regulatory Services Under the Atomic Energy Act of 1954, as Amended,” explain how the agency collects service fees from specific beneficiaries. Because the NRC's fee recovery under the IOAA (10 CFR part 170) will not equal 100 percent of the agency's total budget authority for the fiscal year (less the budget authority for excluded activities), the NRC also assesses “annual fees” under 10 CFR part 171, “Annual Fees for Reactor Licenses and Fuel Cycle Licenses and Materials Licenses, Including Holders of Certificates of Compliance, Registrations, and Quality Assurance Program Approvals and Government Agencies Licensed by the NRC,” to recover the remaining amount necessary to comply with NEIMA.

II. Discussion

FY 2022 Fee Collection—Overview

The NRC is issuing this FY 2022 final fee rule based on the Consolidated Appropriations Act, 2022 (the enacted budget). The final fee rule reflects a total budget authority in the amount of $887.7 million, an increase of $43.3 million from FY 2021. As explained previously, certain portions of the NRC's total budget authority for the fiscal year are excluded from NEIMA's fee-recovery requirement under Section 102(b)(1)(B) of NEIMA. Based on the FY 2022 enacted budget, these exclusions total $131.0 million, an increase of $8.0 million from FY 2021. These excluded activities consist of $91.5 million for fee-relief activities, $23.0 million for advanced reactor regulatory infrastructure activities, $14.3 million for generic homeland security activities, $1.0 million for waste incidental to reprocessing activities, and $1.2 million for Inspector General services for the Defense Nuclear Facilities Safety Board. Table I summarizes the excluded activities for the FY 2022 final fee rule. The FY 2021 amounts are provided for comparison purposes.

Table I—Excluded Activities
[Dollars in millions]
| FY 2021 final rule | FY 2022 final rule
Fee-Relief Activities:
International activities | 24.7 | 25.5
Agreement State oversight | 10.4 | 11.1
Medical isotope production infrastructure | 7.0 | 3.7
Fee exemption for nonprofit educational institutions | 9.3 | 11.6
Costs not recovered from small entities under 10 CFR 171.16(c) | 7.8 | 7.4
Regulatory support to Agreement States | 12.3 | 12.1
Generic decommissioning/reclamation activities (not related to the operating power reactors and spent fuel storage fee classes) | 14.9 | 15.9
Uranium recovery program and unregistered general licensees | 3.7 | 3.0
Potential Department of Defense remediation program Memorandum of Understanding activities | 1.0 | 0.9
Non-military radium sites | 0.2 | 0.3
Subtotal Fee-Relief Activities | 91.2 | 91.5
Activities under Section 102(b)(1)(B)(ii) of NEIMA (Generic Homeland Security activities, Waste Incidental to Reprocessing activities, and the Defense Nuclear Facilities Safety Board) | 14.1 | 16.5
Advanced reactor regulatory infrastructure activities | 17.7 | 23.0
Total Excluded Activities | 123.0 | 131.0

After accounting for the exclusions from the fee-recovery requirement and net billing adjustments (i.e., for FY 2022 invoices that the NRC estimates will not be paid during the fiscal year, less payments received in FY 2022 for prior year invoices), the NRC must recover approximately $752.7 million in fees in FY 2022. Of this amount, the NRC estimates that $198.8 million will be recovered through 10 CFR part 170 service fees and approximately $553.9 million will be recovered through 10 CFR part 171 annual fees. Table II summarizes the fee-recovery amounts for the FY 2022 final fee rule using the FY 2022 enacted budget and takes into account the budget authority for excluded activities and net billing adjustments. For all information presented in the following tables, individual values may not sum to totals due to rounding. Please see the work papers, available as indicated in the “Availability of Documents” section of this document, for actual amounts.

In FY 2022, the explanatory statement associated with the Consolidated Appropriations Act, 2022 also included direction for the NRC to use $16.0 million in prior-year unobligated carryover funds to fully fund the University Nuclear Leadership Program (UNLP). Consistent with the requirements of NEIMA, the NRC does not assess fees in the current fiscal year for any carryover funds because fees are calculated based on the budget authority enacted for the current fiscal year. Fees were already assessed in the fiscal year in which the carryover funds were appropriated. The FY 2021 amounts are provided for comparison purposes.

Table II—Budget and Fee Recovery Amounts
[Dollars in millions]
| FY 2021 final rule | FY 2022 final rule
Total Budget Authority | $844.4 | $887.7
Less Budget Authority for Excluded Activities: | −123.0 | −131.0
Balance | 721.4 | 756.7
Fee Recovery Percent | 100 | 100
Total Amount to be Recovered: | 721.4 | 756.7
Less Estimated Amount to be Recovered through 10 CFR Part 170 Fees | −190.6 | −198.8
Estimated Amount to be Recovered through 10 CFR Part 171 Fees | 530.8 | 557.9
10 CFR Part 171 Billing Adjustments:
Unpaid Current Year Invoices (estimated) | 2.1 | 2.0
Less Current Year Collections from a Terminated Reactor—Indian Point Nuclear Generating, Unit 2 in FY 2020 and Indian Point Nuclear Generating, Unit 3 in FY 2021 | −2.7 | N/A
Less Payments Received in Current Year for Previous Year Invoices (estimated) | −12.8 | −6.0
Adjusted Amount to be Recovered through 10 CFR Parts 170 and 171 Fees | 708.0 | 752.7
Adjusted 10 CFR Part 171 Annual Fee Collections Required | 517.4 | 553.9

FY 2022 Fee Collection—Professional Hourly Rate

The NRC uses a professional hourly rate to assess fees under 10 CFR part 170 for specific services it provides. The professional hourly rate also helps determine flat fees (which are used for the review of certain types of license applications). This rate is applicable to all activities for which fees are assessed under §§ 170.21 and 170.31.

The NRC's professional hourly rate is derived by adding budgeted resources for (1) mission-direct program salaries and benefits, (2) mission-indirect program support, and (3) agency support (corporate support and the Inspector General). The NRC then subtracts certain offsetting receipts and divides this total by the mission-direct full-time equivalent (FTE) converted to hours (the mission-direct FTE converted to hours is the product of the mission-direct FTE multiplied by the estimated annual mission-direct FTE productive hours). The only budgeted resources excluded from the professional hourly rate are those for mission-direct contract resources, which are generally billed to licensees separately. The following shows the professional hourly rate calculation:

For FY 2022, the NRC is increasing the professional hourly rate from $288 to $290. The increase in the professional hourly rate is primarily due to the increase in budgetary resources of approximately $11.0 million. The increase in budgetary resources is, in turn, primarily due to an increase in salaries and benefits to support Federal pay raises for NRC employees. The anticipated increase in the number of mission-direct FTE compared to FY 2021 is an offset to the increase in the professional hourly rate. The number of mission-direct FTE is expected to increase by 12, primarily to support new reactor licensing activities, including the review of design certifications, pre-application activities, and the review of combined license (COL) applications.

The FY 2022 estimate for annual mission-direct FTE productive hours is 1,510 hours, which is unchanged from FY 2021. This estimate, also referred to as the “Productive Hours Assumption,” reflects the average number of hours that a mission-direct employee spends on mission-direct work in a given year. This estimate, therefore, excludes hours charged to annual leave, sick leave, holidays, training, and general administrative tasks. Table III shows the professional hourly rate calculation methodology. The FY 2021 amounts are provided for comparison purposes.

Table III—Professional Hourly Rate Calculation
[Dollars in millions, except as noted]
| FY 2021 final rule | FY 2022 final rule
Mission-Direct Program Salaries & Benefits | $335.3 | $349.3
Mission-Indirect Program Support | $113.2 | $115.1
Agency Support (Corporate Support and the IG) | $283.7 | $278.9
Subtotal | $732.2 | $743.3
Less Offsetting Receipts ¹ | $0.0 | $0.0
Total Budgeted Resources Included in Professional Hourly Rate | $732.2 | $743.3
Mission-Direct FTE | 1,684 | 1,696.1
Annual Mission-Direct FTE Productive Hours (Whole numbers) | 1,510 | 1,510
Mission-Direct FTE Converted to Hours (Mission-Direct FTE multiplied by Annual Mission-Direct FTE Productive Hours) | 2,542,840 | 2,561,111
Professional Hourly Rate (Total Budgeted Resources Included in Professional Hourly Rate Divided by Mission-Direct FTE Converted to Hours) (Whole Numbers) | $288 | $290

FY 2022 Fee Collection—Flat Application Fee Changes

The NRC is amending the flat application fees it charges in its schedule of fees in §§ 170.21 and 170.31 to reflect the revised professional hourly rate of $290. The NRC charges these fees to applicants for materials licenses and other regulatory services, as well as to holders of materials licenses. The NRC calculates these flat fees by multiplying the average professional staff hours needed to process the licensing actions by the professional hourly rate for FY 2022. As part of its calculations, the NRC analyzes the actual hours spent performing licensing actions and estimates the five-year average professional staff hours needed to process licensing actions as part of its biennial review of fees. These actions are required by Section 205(a) of the Chief Financial Officers Act of 1990 (31 U.S.C. 902(a)(8)). The NRC performed this review in FY 2021 and will perform this review again in FY 2023. The higher professional hourly rate of $290 is the primary reason for the increase in flat application fees (see the work papers).

¹ The fees collected by the NRC for Freedom of Information Act (FOIA) services and indemnity fees (financial protection required of all licensees for public liability claims at 10 CFR part 140) are subtracted from the budgeted resources amount when calculating the 10 CFR part 170 professional hourly rate, per the guidance in the Office of Management and Budget Circular A-25, User Charges. The budgeted resources for FOIA activities are allocated under the product for Information Services within the Corporate Support business line. The budgeted resources for indemnity activities are allocated under the Licensing Actions and Research and Test Reactors products within the Operating Reactors business line.

In order to simplify billing, the NRC rounds these flat fees to a minimal degree. Specifically, the NRC rounds these flat fees (up or down) in such a way that ensures both convenience for its stakeholders and minimal effects due to rounding. Accordingly, fees under $1,000 are rounded to the nearest $10, fees between $1,000 and $100,000 are rounded to the nearest $100, and fees greater than $100,000 are rounded to the nearest $1,000.

The flat fees are applicable for certain materials licensing actions (see fee categories 1.C. through 1.D., 2.B. through 2.F., 3.A. through 3.S., 4.B. through 5.A., 6.A. through 9.D., 10.B., 15.A. through 15.L., 15.R., and 16 of § 170.31). Applications filed on or after the effective date of the FY 2022 final fee rule will be subject to the revised fees in the final rule.

In accordance with NEIMA, in FY 2022, the NRC identified international activities, including the resources for import and export licensing activities, as a fee-relief activity to be excluded from the fee-recoverable budget. The FY 2021 final fee rule, published in the Federal Register (86 FR 32146; June 16, 2021), provided for fees to be charged for import and export licensing actions, consistent with the FY 2021 budget request as further described in the NRC's FY 2021 Congressional Budget Justification (CBJ) (NUREG-1100, Volume 36). However, charging fees under 10 CFR part 170 for import and export licensing actions during the effective dates of the FY 2021 final fee rule would be inconsistent with the Commission's substantive fee policy decision in the FY 2022 CBJ (NUREG-1100, Volume 37) and would result in the NRC imposing fees for import and export licensing actions only once between FY 2018 and FY 2022. This would not be fair and equitable and could also lead to confusion for the affected import and export license applicants/licensees. Therefore, in light of the particular facts and unique history associated with this matter, on August 20, 2021, the Chief Financial Officer concluded that it would be in the public interest to grant an exemption from the provisions in the FY 2021 final fee rule (in §§ 170.21 and 170.31) that would require fees for import and export licensing actions in accordance with § 170.11(b). In accordance with the Commission's substantive fee policy decision for FY 2022, fees will not be assessed for import and exporting licensing activities (see fee categories K.1. through K.5. of § 170.21 and fee categories 15.A. through 15.R. of § 170.31) under this final rule.

FY 2022 Fee Collection—Low-Level Waste Surcharge

As in prior years, the NRC is assessing a generic low-level waste (LLW) surcharge of $4.250 million. Disposal of LLW occurs at commercially-operated LLW disposal facilities that are licensed by either the NRC or an Agreement State. Four existing LLW disposal facilities in the United States accept various types of LLW. All are located in Agreement States and, therefore, are regulated by an Agreement State, rather than the NRC. The NRC is allocating this surcharge to its licensees based on data available in the U.S. Department of Energy's (DOE) Manifest Information Management System. This database contains information on total LLW volumes disposed of by four generator classes: academic, industrial, medical, and utility. The ratio of waste volumes disposed of by these generator classes to total LLW volumes disposed over a period of time is used to estimate the portion of this surcharge that will be allocated to the power reactors, fuel facilities, and the materials users fee classes. The materials users fee class portion is adjusted to account for the large percentage of materials licensees that are licensed by the Agreement States rather than the NRC.

Table IV shows the allocation of the LLW surcharge and its allocation across the various fee classes.

Table IV—Allocation of LLW Surcharge FY 2022
[Dollars in millions]
Fee classes | LLW Surcharge: Percent | LLW Surcharge: $
Operating Power Reactors | 88.4 | 3.757
Spent Fuel Storage/Reactor Decommissioning | 0.0 | 0.0
Non-Power Production or Utilization Facilities | 0.0 | 0.0
Fuel Facilities | 9.2 | 0.391
Materials Users | 2.4 | 0.102
Transportation | 0.0 | 0.0
Rare Earth Facilities | 0.0 | 0.0
Uranium Recovery | 0.0 | 0.0
Total | 100.0 | 4.250

FY 2022 Fee Collection—Revised Annual Fees

In accordance with SECY-05-0164, “Annual Fee Calculation Method,” the NRC rebaselines its annual fees every year. Rebaselining entails analyzing the budget in detail and then allocating the FY 2022 budgeted resources to various classes or subclasses of licensees. It also includes updating the number of NRC licensees in its fee calculation methodology.

The NRC is revising its annual fees in §§ 171.15 and 171.16 to recover approximately 100 percent of the NRC's FY 2022 enacted budget (less the budget authority for excluded activities and the estimated amount to be recovered through 10 CFR part 170 fees). Table V shows the rebaselined fees for FY 2022 for a sample of licensee categories. The FY 2021 amounts are provided for comparison purposes.

Table V—Rebaselined Annual Fees
[Actual dollars]
Class/category of licenses | FY 2021 final annual fee | FY 2022 final annual fee
Operating Power Reactors | $4,749,000 | $5,165,000
+ Spent Fuel Storage/Reactor Decommissioning | 237,000 | $227,000
Total, Combined Fee | $4,986,000 | $5,392,000
Spent Fuel Storage/Reactor Decommissioning | $237,000 | $227,000
Non-Power Production or Utilization Facilities | $80,000 | $90,100
High Enriched Uranium Fuel Facility (Category 1.A.(1)(a)) | $4,643,000 | $4,334,000
Low Enriched Uranium Fuel Facility (Category 1.A.(1)(b)) | $1,573,000 | $1,469,000
Uranium Enrichment (Category 1.E) | $2,023,000 | $1,888,000
UF6 Conversion and Deconversion Facility (Category 2.A.(1) | $467,000 | $436,000
Basic In Situ Recovery Facilities (Category 2.A.(2)(b)) | $47,200 | $42,000
Typical Users:
Radiographers (Category 3O) | $29,100 | $29,600
All Other Specific Byproduct Material Licensees (Category 3P) | $9,900 | $9,900
Medical Other (Category 7C) | $16,800 | $17,000
Device/Product Safety Evaluation—Broad (Category 9A) | $17,900 | $18,100

The work papers that support this final rule show in detail how the NRC allocates the budgeted resources for each class of licensees and calculates the fees.

Paragraphs a. through h. of this section describe the budgeted resources allocated to each class of licensees and the calculations of the rebaselined fees. For more information about detailed fee calculations for each class, please consult the accompanying work papers for this final rule.

a. Operating Power Reactors

The NRC will collect $480.3 million in annual fees from the operating power reactors fee class in FY 2022, as shown in Table VI. The FY 2021 operating power reactors fees are shown for comparison purposes.

Table VI—Annual Fee Summary Calculations for Operating Power Reactors
[Dollars in millions]
Summary fee calculations | FY 2021 final rule | FY 2022 final rule
Total budgeted resources | $611.8 | $645.4
Less estimated 10 CFR part 170 receipts | −161.6 | −165.8
Net 10 CFR part 171 resources | 450.2 | 479.6
Allocated generic transportation | 0.3 | 0.4
Allocated LLW surcharge | 2.9 | 3.8
Billing adjustment | −9.1 | −3.4
Adjustment: Estimated current year collections from a terminated reactor (Indian Point Generating, Unit 3 in FY 2021) | −2.7 | N/A
Total required annual fee recovery | 441.7 | 480.3
Total operating reactors | 93 | 93
Annual fee per operating reactor | $4.749 | $5.165

In comparison to FY 2021, the FY 2022 annual fee for the operating power reactors fee class is increasing primarily due to the following: (1) an increase in budgeted resources; (2) a reduction of the 10 CFR part 171 billing adjustment; and (3) the absence of the collection adjustment that was provided in FY 2021 due to the shutdown of Indian Point Generating, Unit 3. The increase in the annual fee for the operating power reactors fee class is partially offset due to the increase in the 10 CFR part 170 estimated billings. These components are discussed in the following paragraphs.

The budgeted resources for the operating power reactors fee class increased primarily due to the following: (1) an increase in contract funding in the information technology program to support the Mission Analytics Portal (a tool to enhance the agency's ability to leverage data to support mission activities), to develop infrastructure to increase analytics capabilities using artificial intelligence, and to develop mobile applications for resident inspectors; (2) event response activities to support the NRC's continuity of operations program and emergency plan guidance development; (3) an increase in certain contract costs in the areas of research, event response, and licensing due to the absence of authorized prior year unobligated carryover funding compared to FY 2021; (4) new reactor licensing activities for the review of the Westinghouse eVinci micro reactor design certification, the review of the NuScale Power, LLC standard design approval application, and pre-application activities; and (5) pre-application activities for the Utah Associated Municipal Power Systems application. The new reactor resources are offset by a decrease in oversight resulting from the anticipated transition of Vogtle Electric Generating Plant, Units 3 and 4 (Vogtle Units 3 and 4), from construction into operation.

The annual fee is also increasing due to the following contributing factors: (1) a lower 10 CFR part 171 billing adjustment credit than was included in the operating power reactors fee class calculation in FY 2021 from the deferral of annual fees and service fees due to the coronavirus disease (COVID-19) pandemic; (2) the absence of the one-time current year collection adjustment that resulted in a credit of $2,700,000 due to the shutdown of Indian Point Nuclear Generating, Unit 3, in FY 2021; and (3) the increase in the LLW surcharge due to additional resources required to support the greater-than-Class C rulemaking for LLW case-by-case reviews (10 CFR part 61).

The increase in the annual fee for the operating power reactors fee class is offset due to an increase in the 10 CFR part 170 estimated billings as a result of the following: (1) an anticipated rise in in-person inspections and travel as COVID-19 impacts become less prominent; (2) an increase in operating reactor license renewal applications; and (3) construction inspection and licensing for Vogtle Units 3 and 4. The increase in 10 CFR part 170 estimated billings is partially offset by a decrease in work due to the following: (1) the NRC's denial of the Oklo Power, LLC COL application to build and operate the Aurora compact fast reactor; (2) delayed submittals for new reactor design and licensing applications; and (3) fewer than anticipated hours associated with operating reactor licensing activities.

The number of operating power reactors has changed since publication of the proposed rule. In the proposed rule, the NRC assumed that there would be an increase in the total number of operating power reactors from 93 to 94 due to the proposed assessment of annual fees for Vogtle Unit 3. As stated in the FY 2023 CBJ (NUREG-1100, Volume 38), Southern Nuclear Operating Company has extended its construction milestones in its semi-annual filing to state regulators. At that time, the utility updated the target for Vogtle Unit 3's transition to operations to April 2022, acknowledging a possible extension to July 2022. Since the licensee has not notified the NRC of successful completion of power ascension testing for Vogtle Unit 3 pursuant to § 171.15, this final rule has been updated to reflect 93, rather than 94, licensed operating power reactors, resulting in an annual fee of $5,165,000 per reactor. Additionally, each licensed operating power reactor will be assessed the FY 2022 spent fuel storage/reactor decommissioning annual fee of $227,000 (see Table VII and the discussion that follows). The combined FY 2022 annual fee for each operating power reactor is $5,392,000.

Section 102(b)(3)(B)(i) of NEIMA established a new cap for the annual fees charged to operating reactor licensees; under this provision, the annual fee for an operating reactor licensee, to the maximum extent practicable, shall not exceed the annual fee amount per operating reactor licensee established in the FY 2015 final fee rule (80 FR 37432; June 30, 2015), adjusted for inflation. The NRC included an estimate of the operating power reactors annual fee in Appendix C, “Estimated Operating Power Reactors Annual Fee,” in the FY 2022 CBJ, with the intent to increase transparency with stakeholders. The NRC developed this estimate based on the staff's allocation of the FY 2022 CBJ to fee classes under 10 CFR part 170, and allocations within the operating power reactors fee class under 10 CFR part 171. In addition, the estimated annual fee assumed 94 operating power reactors to account for Vogtle Unit 3 in FY 2022 and applied various data assumptions from the FY 2021 final fee rule (86 FR 32146; June 16, 2021). Based on these allocations and assumptions, the operating power reactor annual fee included in the FY 2022 CBJ was estimated to be $4.8 million, approximately $0.6 million below the FY 2015 operating power reactors annual fee amount adjusted for inflation of $5.5 million. Although the FY 2022 CBJ included the estimated operating power reactors annual fee, the assumptions made between budget formulation and the development of the FY 2022 final rule have changed, including the change in the number of operating power reactors from 94 to 93. However, the FY 2022 annual fee of $5,165,000 remains below the FY 2015 operating power reactors annual fee amount adjusted for inflation.

In FY 2016, the NRC amended its licensing, inspection, and annual fee regulations to establish a variable annual fee structure for light-water SMRs (81 FR 32617). Under the variable annual fee structure, an SMR annual fee would be assessed as a function of its bundled licensed thermal power rating. Currently, there are no operating SMRs; therefore, the NRC will not assess an annual fee in FY 2022 for this type of licensee.

b. Spent Fuel Storage/Reactor Decommissioning

The NRC will collect $27.7 million in annual fees from 10 CFR part 50 power reactor licensees, and from 10 CFR part 72 licensees that do not hold a 10 CFR part 50 license, to recover the budgeted resources for the spent fuel storage/reactor decommissioning fee class in FY 2022, as shown in Table VII. The FY 2021 spent fuel storage/reactor decommissioning fees are shown for comparison purposes.

Table VII—Annual Fee Summary Calculations for Spent Fuel Storage/Reactor Decommissioning
[Dollars in millions]
Summary fee calculations | FY 2021 final rule | FY 2022 final rule
Total budgeted resources | $42.2 | $40.4
Less estimated 10 CFR part 170 receipts | −13.8 | −13.8
Net 10 CFR part 171 resources | 28.4 | 26.6
Allocated generic transportation costs | 1.1 | 1.3
Billing adjustments | −0.6 | −0.2
Total required annual fee recovery | 28.9 | 27.7
Total spent fuel storage facilities | 122 | 122
Annual fee per facility | $0.237 | $0.227

In comparison to FY 2021, the FY 2022 annual fee for the spent fuel storage/reactor decommissioning fee class is decreasing primarily due to a decrease in budgeted resources. The decrease in the annual fee is partially offset due to (1) a reduction of the 10 CFR part 171 billing adjustment and (2) an increase in the generic transportation resources compared to FY 2021. Furthermore, the net result of changes in 10 CFR part 170 estimated billings resulted in no change compared to FY 2021. These components are discussed in the following paragraphs.

The decrease in the annual fee for the spent fuel storage/reactor decommissioning fee class is primarily due to a decline in the budgeted resources with changes in workload from the completion of the license application reviews for the consolidated interim storage facilities and renewals for independent spent fuel storage installation (ISFSI) licenses. The decrease in the budgeted resources is offset by an increase in contract costs due to the absence of prior year unobligated carryover funding compared to FY 2021.

The decrease in the annual fee is offset by the following: (1) a lower 10 CFR part 171 billing adjustment credit than was included in the spent fuel storage/reactor decommissioning fee class calculation in FY 2021 from the deferral of annual fees and service fees due to the COVID-19 pandemic; and (2) an increase in generic transportation resources allocated to the fee class due to an increase in the number of certificates of compliance (CoCs).

Furthermore, the net result of changes in 10 CFR part 170 estimated billings resulted in no change compared to FY 2021. Compared to FY 2021, the 10 CFR part 170 estimates increased primarily due to the following: (1) the staff's activities within the reactor decommissioning program to support Indian Point Generating Unit 2's transition to decommissioning, the staff's review of a license transfer application for Kewaunee Power Station, and the review of decommissioning license amendment requests, exemption requests, license termination plans, confirmatory surveys, and inspection activities at multiple sites; (2) inspection activities, exemption requests, and financial assurance reviews for ISFSI licenses and dry cask storage CoCs; and (3) the staff's review of a new fuel storage system. The 10 CFR part 170 estimates decreased primarily due to the following: (1) a reduction in hours and contract support associated with the staff's review of applications for renewals and amendments for ISFSI licenses and dry cask storage CoCs; (2) the completion of the review of the Interim Storage Partners consolidated interim storage facility application and issuance of the license; and (3) the near completion of the staff's review of the Holtec HI-STORE consolidated interim storage facility application.

The required annual fee recovery amount is divided equally among 122 licensees, resulting in a FY 2022 annual fee of $227,000 per licensee.

c. Fuel Facilities

The NRC will collect $16.4 million in annual fees from the fuel facilities fee class in FY 2022, as shown in Table VIII. The FY 2021 fuel facilities fees are shown for comparison purposes.

Table VIII—Annual Fee Summary Calculations for Fuel Facilities
[Dollars in millions]
Summary fee calculations | FY 2021 final rule | FY 2022 final rule
Total budgeted resources | $23.3 | $22.4
Less estimated 10 CFR part 170 receipts | −7.3 | −8.0
Net 10 CFR part 171 resources | 16.0 | 14.4
Allocated generic transportation | 1.5 | 1.7
Allocated LLW surcharge | 0.3 | 0.4
Billing adjustments | −0.4 | −0.1
Total remaining required annual fee recovery | $17.5 | $16.4

In comparison to FY 2021, the FY 2022 annual fee for the fuel facilities fee class is decreasing primarily due to the decrease in budgeted resources and the increase in 10 CFR part 170 estimated billings as discussed in the following paragraphs.

The budgeted resources for the fuel facilities fee class decreased primarily due to the following: (1) efficiencies gained as a result of implemented enhancements to the licensing program and (2) enhancements made to the fuel facility oversight program through the implementation of the smarter inspection program.

The 10 CFR part 170 estimated billings increased primarily to support the following: (1) the staff's review of a new fuel facility license application for TRISO-X and (2) the staff's continued review of the Westinghouse Electric Company, LLC license renewal application.

The NRC will continue allocating annual fees to individual fuel facility licensees based on the effort/fee determination matrix developed in the FY 1999 final fee rule (64 FR 31447; June 10, 1999). To briefly recap, the matrix groups licensees within this fee class into various fee categories. The matrix lists processes that are conducted at licensed sites and assigns effort factors for the safety and safeguards activities associated with each process (these effort factors are reflected in Table IX). The annual fees are then distributed across the fee class based on the regulatory effort assigned by the matrix. The effort factors in the matrix represent regulatory effort that is not recovered through 10 CFR part 170 fees (e.g., rulemaking, guidance). Regulatory effort for activities that are subject to 10 CFR part 170 fees, such as the number of inspections, is not applicable to the effort factor.

Table IX—Effort Factors for Fuel Facilities, FY 2022
Facility type (fee category) | Number of facilities | Effort factors: Safety | Effort factors: Safeguards
High-Enriched Uranium Fuel (1.A.(1)(a)) | 2 | 88 | 91
Low-Enriched Uranium Fuel (1.A.(1)(b)) | 3 | 70 | 21
Limited Operations (1.A.(2)(a)) | 1 | 3 | 17
Gas Centrifuge Enrichment Demonstration (1.A.(2)(b)) | 0 | 0 | 0
Hot Cell (and others) (1.A.(2)(c)) | 0 | 0 | 0
Uranium Enrichment (1.E.) | 1 | 16 | 23
UF6 Conversion and Deconversion (2.A.(1)) | 1 | 7 | 2

In FY 2022, the total remaining amount of annual fees to be recovered, $16.4 million, is attributable to safety activities, safeguards activities, and the LLW surcharge. For FY 2022, the total budgeted resources to be recovered as annual fees for safety activities are $8.7 million. To calculate the annual fee, the NRC allocates this amount to each fee category based on its percentage of the total regulatory effort for safety activities. Similarly, the NRC allocates the budgeted resources to be recovered as annual fees for safeguards activities, $7.3 million, to each fee category based on its percentage of the total regulatory effort for safeguards activities. Finally, the fuel facilities fee class portion of the LLW surcharge—$0.4 million—is allocated to each fee category based on its percentage of the total regulatory effort for both safety and safeguards activities. The annual fee per licensee is then calculated by dividing the total allocated budgeted resources for the fee category by the number of licensees in that fee category. The annual fee for each facility is summarized in Table X.

Table X—Annual Fees for Fuel Facilities
[Actual dollars]
Facility type (fee category) | FY 2021 final annual fee | FY 2022 final annual fee
High-Enriched Uranium Fuel (1.A.(1)(a)) | $4,643,000 | $4,334,000
Low-Enriched Uranium Fuel (1.A.(1)(b)) | 1,573,000 | 1,469,000
Facilities with limited operations (1.A.(2)(a)) | 1,037,000 | 968,000
Gas Centrifuge Enrichment Demonstration (1.A.(2)(b)) | N/A | N/A
Hot Cell (and others) (1.A.(2)(c)) | N/A | N/A
Uranium Enrichment (1.E.) | 2,023,000 | 1,888,000
UF6 Conversion and Deconversion (2.A.(1)) | 467,000 | 436,000

d. Uranium Recovery Facilities

The NRC will collect $0.3 million in annual fees from the uranium recovery facilities fee class in FY 2022, as shown in Table XI. The FY 2021 uranium recovery facilities fees are shown for comparison purposes.

Table XI—Annual Fee Summary Calculations for Uranium Recovery Facilities
[Dollars in millions]
Summary fee calculations | FY 2021 final rule | FY 2022 final rule
Total budgeted resources | $0.5 | $0.9
Less estimated 10 CFR part 170 receipts | −0.3 | −0.6
Net 10 CFR part 171 resources | 0.2 | 0.3
Allocated generic transportation | N/A | N/A
Billing adjustments | 0.0 | 0.0
Total required annual fee recovery | $0.2 | $0.3

In comparison to FY 2021, the FY 2022 annual fee for the non-DOE licensee in the uranium recovery facilities fee class is decreasing due to an increase in 10 CFR part 170 estimated billings to support an increase in casework for Crow Butte Resources, Inc. (CBR) related to the Atomic Safety and Licensing Board decision on the NRC staff's National Environmental Review Act and National Historic Preservation Act reviews for CBR's 2014 license renewal.

The NRC regulates DOE's Title I and Title II activities under the Uranium Mill Tailings Radiation Control Act (UMTRCA).² The annual fee assessed to DOE includes the resources specifically budgeted for the NRC's UMTRCA Title I and Title II activities, as well as 10 percent of the remaining budgeted resources for this fee class. The NRC described the overall methodology for determining fees for UMTRCA in the FY 2002 fee rule (67 FR 42625; June 24, 2002), and the NRC continues to use this methodology.

² Congress established the two programs, Title I and Title II, under UMTRCA to protect the public and the environment from hazards associated with uranium milling. The UMTRCA Title I program is for remedial action at abandoned mill tailings sites where tailings resulted largely from production of uranium for weapons programs. The NRC also regulates DOE's UMTRCA Title II program, which is directed toward uranium mill sites licensed by the NRC or Agreement States in or after 1978.

The DOE's UMTRCA annual fee is increasing compared to FY 2021 primarily due to an increase in budgetary resources attributed to generic work that staff will be performing to resolve issues associated with the transfer of NRC and Agreement State uranium mill tailings sites to the DOE for long-term surveillance and maintenance. The increase in the annual fee is offset by an increase in the 10 CFR part 170 estimated billings for the anticipated workload increases at various DOE UMTRCA sites. The NRC assesses the remaining 90 percent of its budgeted resources to the remaining licensee in this fee class, as described in the work papers, which is reflected in Table XII.

Table XII—Costs Recovered Through Annual Fees; Uranium Recovery Facilities Fee Class
[Actual dollars]
Summary of costs | FY 2021 final annual fee | FY 2022 final annual fee
DOE Annual Fee Amount (UMTRCA Title I and Title II) General Licenses:
UMTRCA Title I and Title II budgeted resources less 10 CFR part 170 receipts | $111,536 | $206,441
10 percent of generic/other uranium recovery budgeted resources | 5,241 | 4,665
10 percent of uranium recovery fee-relief adjustment | N/A | N/A
Total Annual Fee Amount for DOE (rounded) | $117,000 | $211,000
Annual Fee Amount for Other Uranium Recovery Licenses:
90 percent of generic/other uranium recovery budgeted resources less the amounts specifically budgeted for UMTRCA Title I and Title II activities | $47,166 | $41,986
90 percent of uranium recovery fee-relief adjustment | N/A | N/A
Total Annual Fee Amount for Other Uranium Recovery Licenses | $47,166 | $41,986

Further, for any non-DOE licensees, the NRC will continue using a matrix to determine the effort levels associated with conducting generic regulatory actions for the different licensees in the uranium recovery facilities fee class; this is similar to the NRC's approach for fuel facilities, described previously. The matrix methodology for uranium recovery licensees first identifies the licensee categories included within this fee class (excluding DOE). These categories are: conventional uranium mills and heap leach facilities, uranium in situ recovery (ISR) and resin ISR facilities, and mill tailings disposal facilities. The matrix identifies the types of operating activities that support and benefit these licensees, along with each activity's relative weight (see the work papers). Currently, there is only one remaining non-DOE licensee, which is a basic in situ recovery facility. Table XIII displays the benefit factors for the non-DOE licensee in that fee category.

Table XIII—Benefit Factors for Uranium Recovery Licenses
Fee category | Number of licensees | Benefit factor per licensee | Total value | Benefit factor percent total
Conventional and Heap Leach mills (2.A.(2)(a)) | 0 | 0 | 0 | 0
Basic In Situ Recovery facilities (2.A.(2)(b)) | 1 | 190 | 190 | 100
Expanded In Situ Recovery facilities (2.A.(2)(c)) | 0 | 0 | 0 | 0
Section 11e.(2) disposal incidental to existing tailings sites (2.A.(4)) | 0 | 0 | 0 | 0
Total | 1 | 190 | 190 | 100

The FY 2022 annual fee for the remaining non-DOE licensee is calculated by allocating 100 percent of the budgeted resources, as summarized in Table XIV.

Table XIV—Annual Fees for Uranium Recovery Licensees
[Other than DOE]
[Actual dollars]
Facility type (fee category) | FY 2021 final annual fee | FY 2022 final annual fee
Conventional and Heap Leach mills (2.A.(2)(a)) | N/A | N/A
Basic In Situ Recovery facilities (2.A.(2)(b)) | $47,200 | $42,000
Expanded In Situ Recovery facilities (2.A.(2)(c)) | N/A | N/A
Section 11e.(2) disposal incidental to existing tailings sites (2.A.(4)) | N/A | N/A

e. Non-Power Production or Utilization Facilities

The NRC will collect $0.270 million in annual fees from the non-power production or utilization facilities fee class in FY 2022, as shown in Table XV. The FY 2021 non-power production or utilization facilities fees are shown for comparison purposes.

Table XV—Annual Fee Summary Calculations for Non-Power Production or Utilization Facilities
[Actual dollars]
Summary fee calculations | FY 2021 final rule | FY 2022 final rule
Total budgeted resources | $2,896,754 | $6,071,559
Less estimated 10 CFR part 170 receipts | −2,576,000 | −5,804,000
Net 10 CFR part 171 resources | 320,754 | 267,559
Allocated generic transportation ³ | 43,302 | 35,232
Billing adjustments ³ | −43,915 | −32,485
Total required annual fee recovery | 320,141 | 270,306
Total non-power production or utilization facilities licenses | 4 | 3
Total annual fee per license (rounded) | $80,000 | $90,100

³ In the FY 2021 final fee rule, the decimal places for the “allocated generic transportation” and “billing adjustments” calculations were adjusted to the thousandths place instead of the correct ten thousandths place. There was no impact to the overall calculation for the FY 2021 final fee rule. The revised dollar amounts for FY 2021 are shown here to align with the rest of Table XV and provide a clearer comparison to the FY 2022 fees.

In comparison to FY 2021, the FY 2022 annual fee for the non-power production or utilization facilities fee class is increasing, primarily because of the decrease of non-power production or utilization facilities from four to three as a result of the transition of the Aerotest Radiography and Research Reactor to decommissioning.

In FY 2022, the budgetary resources for the non-power production or utilization facilities fee class are primarily increasing because of an increase in workload associated with medical isotope production facilities and advanced research and test reactors. In addition, the 10 CFR part 170 estimated billings with respect to the medical isotope production facilities and advanced research and test reactors are increasing primarily due to the following: (1) the staff's review of the operating license application for SHINE Medical Technologies, LLC and construction inspection activities; (2) the staff's review of the Kairos Power application for a permit to construct a test reactor; and (3) an increase in pre-application meetings due to the anticipated submission of several license applications. The 10 CFR part 170 estimated billings associated with the current fleet of operating non-power production or utilization facilities licensees subject to annual fees are increasing to support activities associated with the special team inspection and the staff's review of a complex license amendment associated with the restart of the National Institute of Standards and Technology Neutron Reactor.

The annual fee-recovery amount is divided equally among the three non-power production or utilization facilities licensees subject to annual fees and results in an FY 2022 annual fee of $90,100 for each licensee.

f. Rare Earth

The agency received an application for a rare earth facility and in FY 2022, the NRC has allocated approximately $0.2 million in budgeted resources to this fee class; however, because all the budgetary resources will be recovered through service fees assessed under 10 CFR part 170, the NRC is not assessing and collecting annual fees in FY 2022 for this fee class.

g. Materials Users

The NRC will collect $34.8 million in annual fees from materials users licensed under 10 CFR parts 30, 40, and 70 in FY 2022, as shown in Table XVI. The FY 2021 materials users fees are shown for comparison purposes.

Table XVI—Annual Fee Summary Calculations for Materials Users
[Dollars in millions]
Summary fee calculations | FY 2021 final rule | FY 2022 final rule
Total budgeted resources for licensees not regulated by Agreement States | $35.1 | $34.1
Less estimated 10 CFR part 170 receipts | −1.0 | −0.9
Net 10 CFR part 171 resources | 34.1 | 33.2
Allocated generic transportation | 1.5 | 1.7
LLW surcharge | 0.1 | 0.1
Billing adjustments | −0.4 | −0.2
Total required annual fee recovery | $35.3 | $34.8

The formula for calculating 10 CFR part 171 annual fees for the various categories of materials users is described in detail in the work papers. Generally, the calculation results in a single annual fee that includes 10 CFR part 170 costs, such as amendments, renewals, inspections, and other licensing actions specific to individual fee categories.

The total annual fee recovery of $34.8 million for FY 2022 shown in Table XVI consists of $27.0 million for general costs, $7.7 million for inspection costs, and $0.1 million for LLW costs. To equitably and fairly allocate the $34.8 million required to be collected among approximately 2,466 diverse materials users licensees, the NRC continues to calculate the annual fees for each fee category within this class based on the 10 CFR part 170 application fees and estimated inspection costs for each fee category. Because the application fees and inspection costs are indicative of the complexity of the materials license, this approach is the methodology for allocating the generic and other regulatory costs to the diverse fee categories. This fee calculation method also considers the inspection frequency (priority), which is indicative of the safety risk and resulting regulatory costs associated with the categories of licenses.

In comparison to FY 2021, the FY 2022 annual fees are increasing for 47 fee categories within the materials users fee class primarily due to the following: (1) an increase in the budgeted resources for inspections activities compared to the FY 2021 biennial review of inspection hours; (2) a decline in 10 CFR part 170 estimated billings; (3) an increase in generic transportation costs for materials users; and (4) a decrease of materials users licensees from FY 2021.

A constant multiplier is established to recover the total general costs (including allocated generic transportation costs) of $27.0 million. To derive the constant multiplier, the general cost amount is divided by the sum of all fee categories (application fee plus the inspection fee divided by inspection priority) then multiplied by the number of licensees. This calculation results in a constant multiplier of 1.0 for FY 2022. The average inspection cost is the average inspection hours for each fee category multiplied by the professional hourly rate of $290. The inspection priority is the interval between routine inspections, expressed in years. The inspection multiplier is established in order to recover the $7.7 million in inspection costs. To derive the inspection multiplier, the inspection costs amount is divided by the sum of all fee categories (inspection fee divided by inspection priority) then multiplied by the number of licensees. This calculation results in an inspection multiplier of 1.46 for FY 2022. The unique category costs are any special costs that the NRC has budgeted for a specific category of licenses. Please see the work papers for more detail about this classification.

The annual fee being assessed to each licensee also takes into account a share of approximately $0.1 million in LLW surcharge costs allocated to the materials users fee class (see Table IV, “Allocation of LLW Surcharge, FY 2022,” in Section III, “Discussion,” of this document). The annual fee for each fee category is shown in the revision to § 171.16(d).

h. Transportation

The NRC will collect $1.5 million in annual fees to recover generic transportation budgeted resources in FY 2022, as shown in Table XVII. The FY 2021 fees are shown for comparison purposes.

Table XVII—Annual Fee Summary Calculations for Transportation
[Dollars in millions]
Summary fee calculations | FY 2021 final rule | FY 2022 final rule
Total budgeted resources | $8.3 | $10.2
Less estimated 10 CFR part 170 receipts | −2.3 | −3.4
Net 10 CFR part 171 resources | 5.9 | 6.8
Less generic transportation resources | −4.5 | −5.3
Billing adjustments | −0.1 | 0.0
Total required annual fee recovery | $1.4 | $1.5

In comparison to FY 2021, the FY 2022 annual fee for the transportation fee class is increasing primarily due to an increase in the budgeted resources offset by the following: (1) an increase in the 10 CFR part 170 estimated billings and (2) generic transportation resources allocated to other fee classes.

In FY 2022, the budgetary resources increased primarily to support the following: (1) the staff's review of transportation package applications (including the reviews of accident tolerant fuels (ATF)); (2) research activities and the development of technical bases for the review of transportation packages loaded with batch quantities of fresh ATF; and (3) an increase in certain contract costs due to the absence of prior year unobligated carryover funding compared to FY 2021.

The increase in the annual fee is offset by an increase in 10 CFR part 170 estimated billings related to the review of new amendment packages and generic transportation resources allocated to respective fee classes due to an increase in the number of CoCs.

Consistent with the policy established in the NRC's FY 2006 final fee rule (71 FR 30721; May 30, 2006), the NRC recovers generic transportation costs unrelated to DOE by including those costs in the annual fees for licensee fee classes. The NRC continues to assess a separate annual fee under § 171.16, fee category 18.A., for DOE transportation activities. The amount of the allocated generic resources is calculated by multiplying the percentage of total CoCs used by each fee class (and DOE) by the total generic transportation resources to be recovered.

This resource distribution to the licensee fee classes and DOE is shown in Table XVIII. Note that for the non-power production or utilization facilities fee class, the NRC allocates the distribution to only those licensees that are subject to annual fees. Although five CoCs benefit the entire non-power production or utilization facilities fee class, only three out of 31 non-power production or utilization facilities licensees are subject to annual fees. Consequently, the number of CoCs used to determine the proportion of generic transportation resources allocated to annual fees for the non-power production or utilization facilities fee class has been adjusted to 0.5 so these licensees are charged a fair and equitable portion of the total fees (see the work papers).

Table XVIII—Distribution of Transportation Resources, FY 2022
[Dollars in millions]
Licensee fee class/DOE | Number of CoCs benefiting the fee classes or DOE | Percentage of total CoCs | Allocated generic transportation resources
Materials Users | 24.0 | 25.7 | $1.7
Operating Power Reactors | 6.0 | 6.4 | 0.4
Spent Fuel Storage/Reactor Decommissioning | 18.0 | 19.3 | 1.3
Non-Power Production or Utilization Facilities | 0.5 | 0.5 | 0.0
Fuel Facilities | 24.0 | 25.7 | 1.7
Sub-Total of Generic Transportation Resources | 72.5 | 77.5 | 5.3
DOE | 21.0 | 22.5 | 1.5
Total | 93.5 | 100.0 | 6.8

The NRC assesses an annual fee to DOE based on the 10 CFR part 71 CoCs it holds. The NRC, therefore, does not allocate these DOE-related resources to other licensees' annual fees because these resources specifically support DOE.

FY 2022—Policy Changes

The NRC is not making any policy changes in FY 2022.

FY 2022—Administrative Changes

The NRC is making five administrative changes in FY 2022:

1. Amend § 170.3, “Definitions,” by deleting the definition for the phrase review is completed and incorporating language from the definition into § 170.12(b)(3).

The NRC is amending § 170.3 by removing the undesignated paragraph that includes the definition for the phrase review is completed and incorporating language from the paragraph into § 170.12(b)(3). The paragraph containing the definition is unnecessary in 10 CFR part 170 because this phrase is only referenced one time. This amendment will not impact the NRC's assessment of 10 CFR part 170 service fees.

2. Amend § 170.11, “Exemptions,” by clarifying exemption requirements.

The NRC is amending paragraph (a)(1)(i) by replacing the word “that” with “where the request/report,” for consistency with the use of the latter phrase in the introductory text of paragraph (a)(1). In addition, the NRC is amending paragraph (c) by replacing the word “work” with “request/report” for consistency with paragraph (a)(1) and to avoid any potential ambiguity about what is considered the “work” for purposes of the 90-day period in which the fee exemption must be submitted to the NRC's Chief Financial Officer.

The NRC is also amending § 170.11(a)(1)(ii) by retaining the “generic regulatory improvements” clause in paragraph (a)(1)(ii) and moving “Office Director level or above,” to a new paragraph (a)(1)(iii). These changes clarify that the Chief Financial Officer may grant an exemption when the review of a request/report, at the time it is submitted, would “assist the NRC in generic regulatory improvements or efforts,” even if there is no “request from the Office Director level or above” to resolve “an identified safety, safeguards, or environmental issue.”

Finally, the NRC is moving paragraph (a)(13) on CFO communications to a new paragraph (d) because this is not an exemption category but rather a separate requirement applicable to all fee exemption requests under 10 CFR part 170.

These amendments to § 170.11 do not change the NRC's fee exemption policy.

3. Amend § 170.12(f), “Method of payment,” by clarifying the types of payments, updating the contact information for payments, and clarifying the payment method.

The NRC is amending paragraph (f) by replacing “all license fees” with “all fee payments under 10 CFR part 170,” for additional clarity. Currently, paragraph (f) states, in part, that all license fee payments are to be payable to the U.S. Nuclear Regulatory Commission. Since paragraph (f) applies to all fees and not only licensing fees, this amendment provides additional clarity for fee payments under 10 CFR part 170. In addition, the NRC is amending paragraph (f) by replacing “License Fee and Accounts Receivable Branch” with the “Office of the Chief Financial Officer” to remove reference to a specific branch because the Office of the Chief Financial Officer collects fees for the NRC. This amendment eliminates the need to revise the branch information after reorganizations or branch name changes. Finally, the NRC is revising paragraph (f) to clarify that fee payments can be made electronically using www.Pay.gov or manually using NRC Form 629, “Authorization for Payment by Credit Card,” which align with the terms and conditions that are currently being updated to clarify the methods of payment.

4. Add footnote 6 to the table in § 170.21, “Schedule of fees for production and utilization facilities, review of standard referenced design approvals, special projects, inspections, and import and export licenses,” and footnote 12 to the table in § 170.31, “Schedule of fees for materials licenses and other regulatory services, including inspections, and import and export licenses.”

The NRC is adding footnote 6 to the table in § 170.21 and footnote 12 to the table in § 170.31. In accordance with NEIMA, in FY 2022, the NRC identified international activities, including the resources for import and export licensing activities, as a fee-relief activity to be excluded from the fee-recoverable budget. Therefore, the NRC will not charge fees for import and export licensing actions.

5. Add footnote 13 to the table in § 170.31 for clarity.

The NRC is adding footnote 13 to the table in § 170.31 to clarify, with respect to 10 CFR part 170 fees, that licensees paying fees under 4.A., 4.B. or 4.C. in the table are not subject to paying fees under 3.N. This footnote is identical to footnote 21 to the table in § 171.16(d).

Update on the Fees Transformation Initiative

In the staff requirements memorandum, dated October 19, 2016, for SECY-16-0097, “Fee Setting Improvements and Fiscal Year 2017 Proposed Fee Rule,” the Commission directed the staff to accelerate its process improvements for setting fees. In addition, the Commission directed the staff to begin the fees transformation activities listed in SECY-16-0097 as “Process Changes Recommended for Future Consideration—FY 2018 and Beyond.” The NRC has completed all of the 40 fees transformation activities.

The final fees transformation activity that was completed in FY 2022 was the rulemaking to update the NRC's small business size standards in § 2.810, “NRC size standards.” The NRC published a final rule on February 17, 2022 (87 FR 8943) with an effective date of March 21, 2022. In the final rule, the NRC increased the upper and lower tiers for its receipts-based small entity size standards for small businesses and small not-for-profit organizations. These amendments allow the NRC's standards to remain consistent with the inflation adjustments made by the Small Business Administration (SBA) size standard for nonmanufacturing concerns. In addition, in accordance with the Small Business Runway Extension Act of 2018, the NRC changed the calculation of annual average receipts for the receipts-based NRC size standard for small businesses that provide a service or for small businesses not engaged in manufacturing from a 3-year averaging period to a 5-year averaging period. The public can track all NRC rulemaking activities on the NRC's Rulemaking Tracking and Reporting system at https://www.nrc.gov/reading-rm/doc-collections/rulemaking-ruleforum/active/RuleIndex.html. Information on the recently completed rulemaking on the NRC's size standards can be found by searching for Docket ID NRC-2014-0264 at http://www.regulations.gov.

For more information, see the fees transformation accomplishments schedule, located on the NRC's license fees website: https://www.nrc.gov/about-nrc/regulatory/licensing/fees-transformation-accomplishments.html.

III. Public Comment Analysis

Overview of Public Comments

The NRC published a proposed rule on February 23, 2022 (87 FR 10081) and requested public comment on its proposed revisions to 10 CFR parts 170 and 171. By the close of the comment period, the NRC received four written comment submissions on the FY 2022 proposed rule. In general, the commenters were supportive of the specific proposed regulatory changes. Some commenters expressed concerns about broader fee-policy issues related to transparency, the overall size of the NRC's budget, fairness of fees, and budget formulation. Some commenters' concerns were outside the scope of the fee rule.

The commenters are listed in Table XIX.

Table XIX—FY 2022 Proposed Fee Rule Commenter Submissions
Commenter | Affiliation | ADAMS Accession No.
Matthew F. Ostdiek, P.E | Rendezvous Engineering, P.C. (RE) | ML22074A293
Gusstivol Paul Terricah Reid, Sr | No known affiliation | ML22087A051
Dr. Jennifer L. Uhle | Nuclear Energy Institute (NEI) | ML22087A052
Cheryl A. Gayheart | Southern Nuclear Operating Company (SNC) | ML22087A417

Information about obtaining the complete text of the comment submissions is available in the “Availability of Documents,” section of this document.

IV. Public Comments and NRC Responses

The NRC has carefully considered the public comments received on the proposed rule. The comments have been organized by topic into six individual comments. Comments from a single commenter have been quoted to ensure accuracy; brackets within those comments are used to show changes that have been made to the quoted comments.

A. Small Entity

Comment: “[F]rom a small business perspective, the broad revenue range encompassing $485,000 to $7,000,000 favors larger firms while severely burdening small entities. Our firm's revenue is at the bottom end of this range, yet our fee is the same as another entity seven times our gross revenue. The license fee is a significant expense to our firm. Please consider establishing lower licensing fees by [adding] additional fee tiers between the $520,000 to $7,000,000 range. [A] fee rate schedule with more steps for small businesses would help reduce the license fee burden on the smaller entities. Establishing reduced fees by creating more tiers in the gross annual receipts bracket makes sense to help small business concerns. Firms near the top of the bracket with significantly higher annual receipts should pay more that those at the bottom.” (RE)

Response: Under the SBA's regulations, other Federal agencies may, at their discretion, establish their own standards through notice and comment rulemaking. To reduce the significance of the annual fees on a substantial number of small entities, the NRC established the maximum small entity fee in FY 1991. In FY 1992, the NRC introduced a second lower tier to the small entity fee. Because the NRC's methodology for small entity size standards has been approved by the SBA, the NRC did not modify its current methodology for this rulemaking.

As discussed previously in this final fee rule, the NRC recently updated its small business size standards in § 2.810, “NRC size standards,” through notice and comment rulemaking, and those standards are separately codified at § 2.810 (87 FR 8943; February 17, 2022).

No change was made to this final rule as a result of this comment.

B. Use of Fee-Based Carryover Funds

Comment: “In FY 2021, Congress directed NRC to use $35 million in fee-based carryover funding; $16 million for the University Nuclear Leadership Program (UNLP) and $19 million to reduce fee collections. In the recently signed budget authorization for FY2022, Congress directed the use of $16 million in available carryover funding for the UNLP. Had Congress further directed, consistent with prior years, that available fee-based carryover be used for the purpose of reducing licensee fees, the increase seen by licensees would be much less. We encourage NRC to use its available discretionary authority in applying fee-based carryover funds for the purpose of reducing license fees.” (NEI)

Response: Each fiscal year, the NRC follows the direction of Congress in the explanatory statement that accompanies the annual appropriations act. In FY 2022, the explanatory statement associated with the Consolidated Appropriations Act, 2022 directed the NRC to use $16.0 million in prior-year unobligated carryover funds to fully fund the UNLP. Under NEIMA, the NRC must recover, to the maximum extent practicable, approximately 100 percent of the total budget authority appropriated for the fiscal year, less the budget authority for excluded activities.

No change was made to this final rule as a result of this comment.

C. Excluded Activities

Comment: “The FY2022 congressionally authorized budget currently includes over $20 million that should not be included in the fee base. The $16 million appropriated for the University Nuclear Leadership Program is currently being addressed by fee-based carryover funds. This is contrary to the Nuclear Energy Innovation and Modernization Act (NEIMA) of 2018, where UNLP is one of the activities excluded from recovery. The FY2022 payment, combined with a similar payment in FY2021, gives $32M in payments that should have been excluded from the fee base. To facilitate the correction of this, we encourage NRC to include UNLP funding in its FY2023 proposed budget as a fee relief item under NEIMA.

The FY2022 budget also includes $4.3 million to subsidize rent for the Food and Drug Administration (FDA) and the National Institutes of Health (NIH). In its October 12, 2021, letter to Congress on NEIMA, NRC identified that the nuclear industry has paid approximately $21 million to [subsidize] rent for the FDA and the NIH in the 3WFN building and, if unchanged, industry will have to pay an additional $27 million to subsidize rent. These payments do nothing to support the agency's mission. We encourage NRC to continue its discussions with Congress to remove these payments from the fee base.” (NEI)

Response: The FY 2023 CBJ was released to Congress on March 28, 2022, and does not include resources for the UNLP. As part of the NRC's ongoing communications with Congress, the NRC provides information to and has discussions with Congress regarding various budgetary matters.

No change was made to this final rule as a result of this comment.

D. Operating Power Reactors Fee Class Budget and Declining 10 CFR Part 170 Service Fee Collections

Comment: “Approximately 85% of the appropriated budget for FY2022 is from the power reactor fee class. Over the past five years the budget for operating reactors has decreased less than 4%. During this same period, the number of operating reactors has decreased by 7% and Part 170 service fee collections have decreased by 33%. The modest decrease in NRC operating plant budget during this time has not kept pace with the significant reduction in operating plant service fee collections. As a result, a greater percentage of the budget is required to be recovered through annual fees. . . . [T]he percentage of the operating plant budget that is derived from annual fees (currently at 75%) continues to increase; up from 64% in FY 2018. The annual fee for operating plants is increasing by 8.8% over FY2021, to over $5 million per reactor. As noted in the fee rule notices and associated work papers, the reductions in service fee collections in recent years have been attributable, in part, to plant closures. Plant closures have a double impact on operating plants' annual fees in that service fees are collected from fewer plants leading to an increase in required annual fees. This annual fee collection is then divided among fewer operating plants.” (NEI)

Response: The NRC is aware and remains mindful of the impact of its budget on the fees for operating power reactors licensees. The operating power reactors fee class supports the activities of the operating reactors and new reactors business lines, including both direct-billable licensing actions and those general activities that indirectly support the agency's mission in these areas.

When formulating the budget, the NRC takes into consideration various factors. First, the NRC assesses the current environment and performs workload forecasting, which includes looking for significant drivers that could impact the future workload. These include technical, regulatory, and legislative developments that have the potential to generate additional work or reduce work (i.e., rulemaking, a guidance change that could drive new submittals, or known plant closures that will reduce the overall size of the program). The NRC then reviews historical data and trends to measure how our execution in previous years lines up with the budget assumptions at the time. The NRC uses that data to inform the future budget and identify areas where the assumptions previously used may have changed. The NRC also relies heavily on communications from stakeholders to identify plant submittals, including letters of intent, collecting information from the project managers, and considering responses to the periodic regulatory issue summaries on this topic. In budgeting for large licensing projects, the NRC tries to balance the anticipated resource needs against the relative certainty that an application will be submitted on schedule. The NRC recognizes that plans within the industry are subject to change and can be influenced by different factors; however, receiving reliable information from the industry can ensure the NRC is more accurate in budgeting for future workload needs.

Since FY 2016, service fees directly billed to operating power reactor licensees under 10 CFR part 170 have decreased from $287.8 million in FY 2016 to $160.0 million in FY 2022, which represents a decline of $127.8 million, or approximately 44 percent. The decline in 10 CFR part 170 collections and reduction in the number of operating power reactors during this time means that the annual fee did not decline proportionate with the reduction in the total budgeted resources for the operating power reactors fee class. In a given year, fact of life changes in the 10 CFR part 170 estimated collections (due to circumstances like delayed or cancelled licensing applications) also impact the amount to be recovered through 10 CFR part 171 annual fees. While the NRC is mindful of the impact of its budgeted resources on the fees for operating power reactor licensees, the fee class budget is not linearly proportional to the size of the operating power reactor fleet. Resources are required to develop and maintain the infrastructure of the nuclear reactor safety program and fulfill the regulatory and statutory role of the NRC.

Further, while the NRC understands the commenter's concern that early plant closures place additional costs on the existing fleet, the NRC notes that NEIMA caps the per-licensee annual fee for operating reactors, to the maximum extent practicable, at the FY 2015 annual fee amount as adjusted for inflation. The NRC continues to evaluate resource requirements and adjustments that can be made to refine the operating power reactors budget and remains committed to providing enhanced transparency throughout the development of the annual fee rule and supporting work papers.

No change was made to this final rule as a result of this comment.

E. Non-Power Production or Utilization Facilities Fee Class

Comment: “The FY2022 proposed fee rule outlines a 16.3% increase in annual fees for non-power production or utilization facilities (NPUFs). It represents the largest fee increase in the FY2022 proposed fee rule of all the licensee categories. The annual fee for NPUFs has remained steady over the course of the last several years. In fact, the FY2021 Final Fee Rule represented a 1.6% decrease in the annual fee for NPUFs.

NRC outlines that the annual fee increase is due, primarily, to the decrease of NPUF facilities subject to annual fees from four to three. University-based research and test reactors are exempt from fees to meet the requirements of 10 CFR 50.41(b). This decrease was known and anticipated. . . . Total budgeted resources should be appropriately decreased to reflect this change, which would allow for cost efficiency for the remaining three licensees. Rather, the remaining three facilities are left to cover this gap. In other fee categories, such as uranium recovery and fuel cycle facilities, NRC has appropriately recognized that it cannot continue to spread fees across a decreasing licensee class.

The FRN outlines that Part 170 estimated billings are increasing due to a number of factors. The estimated user fees more than double, from $2,576,000 in the FY2021 Final Fee Rule to an estimated $5,803,000 for the FY 2022 Proposed Fee Rule. This indicates that the Part 171 annual fees would likely have been even higher, except for being offset by this significant increase in Part 170 fees. This increase should have amply covered the licensees who pay annual fees; they should have seen little-to-no increase. In fact, it would have been appropriate for NPUF annual fees to decrease. This increase in annual fees underscores the need for NRC to decrease the total budgeted resources for this business line, for FY2022 and in future years, to avoid such double-digit increases. We believe that continuing to impose fee increases of this magnitude on this business line is inconsistent with Section 104.c of the Atomic Energy Act, as well as 10 CFR 50 41(b), which direct the Commission to regulate and license class 104 licensees in a manner that “will permit the conduct of widespread and diverse research and development.” (NEI)

Response: The NRC disagrees with the commenter's suggestion that the NRC inappropriately included activities related to the referenced licensee in the NPUF fee category for the FY 2022 budget. Pursuant to § 171.15(f), annual fees are assessed to licensees authorized to operate a NPUF licensed under 10 CFR part 50, unless the reactor is exempted from fees under § 171.11(b). Additionally, as discussed in NUREG-1537, Part 1, “Guidelines for Preparing and Reviewing Applications for the Licensing of Non-Power Reactors: Format and Content,” issued in February 1996, Section 17.1.2, if a research or test reactor is subject to annual licensing fees, the granting of a possession-only license amendment removes the basis for assessment of 10 CFR part 171 annual fees. Even though the referenced licensee had declared cessation of operation of the facility, the licensee is assessed an annual fee until the possession-only license amendment is issued. The NRC issued the possession-only license amendment on December 6, 2021. Therefore, the resources associated with the referenced licensee were appropriately included in the FY 2022 CBJ.

Further, the NRC disagrees with the commenter's assertion that the increased budget authority for NPUFs reflects regulatory activities that are inconsistent with the NRC's obligations under AEA section 104. Rather, the budgeted activities were necessary to address emerging work needs and maintain adequate oversight of existing facilities. As discussed in the FY 2022 proposed fee rule, the NPUF budgetary resources, which are included under the operating reactors business line, increased because of an increase in workload associated with medical isotope production facilities and advanced research and test reactors. In addition, the 10 CFR part 170 estimated billings with respect to the medical isotope production facilities and advanced research and test reactors increased to support the following: (1) the staff's review of the operating license application for SHINE Medical Technologies, LLC and construction inspection activities; (2) the staff's review of the Kairos Power application for a permit to construct a test reactor; (3) pre-application meetings; and (4) the review of topical reports. The 10 CFR part 170 estimated billings associated with the current fleet of operating non-power production or utilization facilities licensees subject to annual fees increased to support the following: (1) activities associated with the review of the GE Nuclear Test Reactor license renewal application and amendments and (2) activities associated with the special team inspection and restart for the National Institute of Standards and Technology Neutron Reactor.

While the NRC should reduce its budget commensurate with the reduction in the number of NPUFs that pay fees, that reduction is not linearly proportional as there is a cost for the infrastructure that must be maintained independent of the number of operational NPUFs. These infrastructure costs include indirect services and the business line portion of corporate support. Indirect services include rulemaking, maintaining guidance for licensees, and maintaining procedures for NRC staff, training, and travel. Corporate support includes, for example, the cost for information management, information technology, security, facilities management, rent, utilities, financial management, acquisitions, human resources, and policy support.

Under NEIMA, and as stated in the FY 2022 CBJ and the FY 2022 proposed fee rule, medical isotope production infrastructure is a fee-relief activity identified by the Commission. This fee-relief activity includes the budgeted resources for the development of a medical isotope production infrastructure. This fee-relief activity does not include activities that are subject to 10 CFR part 170 fees. As stated in the statements of consideration for the FY 2021 fee rule, while the NRC's fee regulations did not have a fee class for future NPUF licensees (e.g., medical isotope production applicants), the NRC historically included budgeted resources for the review of these applications within the research and test reactor fee class, and the budgeted resources not recovered in 10 CFR part 170 service fees have been excluded from the fee-recovery requirement as a fee-relief activity.

No change was made to this final rule in response to this comment.

F. Transparency

Comment: To ensure notification of significant changes in advance of the final rule, some commenters requested that the NRC use any means available to notify licensees of any substantial changes made during the crafting of the final rule, e.g., the use of carryover and the number of operating power reactors assumed. This would allow licensees additional time needed to realign their own budgets. One commenter also encouraged future public meetings to discuss resolution of the industry comments so that the final rule serves in the best interest of safety in a cost-effective manner. (NEI and SNC)

Response: The NRC strives to ensure that the proposed fee rule is as accurate as possible and explains its assumptions about the budgetary resources and the number of operating power reactors to provide the best information available regarding the fiscal year's proposed fees. The NRC discussed these assumptions during the FY2022 proposed fee rule public meeting on March 17, 2022. The NRC must comply with statutory requirements, including NEIMA and the Administrative Procedure Act (APA). NEIMA requires the NRC to recover, to the maximum extent practicable, approximately 100 percent of total budget authority less the budget authority for excluded activity, through fees assessed by the end of the fiscal year. Section 553 of the APA requires the NRC to give the public an opportunity to comment on a published proposed rule. Because the Office of Management and Budget has found the fee rule to be a major rule under the Congressional Review Act, the effective date of the final rule cannot be less than 60 days from the date of publication and must allow for timely final billing prior to the end of the fiscal year. The NRC, therefore, cannot republish the FY 2022 proposed fee rule to provide advance notification of all changes within the final rule and meet its statutory requirements.

No changes were made to this final rule in response to these comments.

V. Regulatory Flexibility Certification

As required by the Regulatory Flexibility Act of 1980, as amended (RFA),⁴ the NRC has prepared a regulatory flexibility analysis related to this final rule. The regulatory flexibility analysis is available as indicated in the “Availability of Documents” section of this document.

⁴ 5 U.S.C. 603. The FRA, 5 U.S.C. 601-602, has been amended by the Small Business Regulatory Enforcement Fairness Act of 1996, Public Law 104-121, Title II, 110 Stat. 847 (1996).

VI. Regulatory Analysis

Under NEIMA, the NRC is required to recover, to the maximum extent practicable, approximately 100 percent of its annual budget for FY 2022 less the budget authority for excluded activities. The NRC established fee methodology guidelines for 10 CFR part 170 in 1978 and established additional fee methodology guidelines for 10 CFR part 171 in 1986. In subsequent rulemakings, the NRC has adjusted its fees without changing the underlying principles of its fee policy to ensure that the NRC continues to comply with the statutory requirements for cost recovery.

In this final rule, the NRC continues this longstanding approach. Therefore, the NRC did not identify any alternatives to the current fee structure guidelines and did not prepare a regulatory analysis for this final rule.

VII. Backfitting and Issue Finality

The NRC has determined that the backfit rule, § 50.109, does not apply to this final rule and that a backfit analysis is not required because these amendments do not require the modification of, or addition to, (1) systems, structures, components, or the design of a facility; (2) the design approval or manufacturing license for a facility; or (3) the procedures or organization required to design, construct, or operate a facility.

VIII. Plain Writing

The Plain Writing Act of 2010 (Pub. L. 111-274) requires Federal agencies to write documents in a clear, concise, and well-organized manner. The NRC wrote this document to be consistent with the Plain Writing Act, as well as the Presidential Memorandum, “Plain Language in Government Writing,” published June 10, 1998 (63 FR 31885).

IX. National Environmental Policy Act

The NRC has determined that this final rule is the type of action described in § 51.22(c)(1). Therefore, neither an environmental impact statement nor environmental assessment has been prepared for this final rule.

X. Paperwork Reduction Act

This final rule does not contain a collection of information as defined in the Paperwork Reduction Act of 1995 (44 U.S.C. 3501 et seq.) and, therefore, is not subject to the requirements of the Act.

Public Protection Notification

The NRC may not conduct or sponsor, and a person is not required to respond to, a collection of information unless the document requesting or requiring the collection displays a currently valid OMB control number.

XI. Congressional Review Act

This final rule is a rule as defined in the Congressional Review Act of 1996 (5 U.S.C. 801-808). The Office of Management and Budget has found it to be a major rule as defined in the Congressional Review Act.

XII. Voluntary Consensus Standards

The National Technology Transfer and Advancement Act of 1995, Public Law 104-113, requires that Federal agencies use technical standards that are developed or adopted by voluntary consensus standards bodies unless the use of such a standard is inconsistent with applicable law or otherwise impractical. In this final rule, the NRC is amending the licensing, inspection, and annual fees charged to its licensees and applicants, as necessary, to recover, to the maximum extent practicable, approximately 100 percent of its annual budget for FY 2022 less the budget authority for excluded activities, as required by NEIMA. This action does not constitute the establishment of a standard that contains generally applicable requirements.

XIII. Availability of Guidance

The Small Business Regulatory Enforcement Fairness Act requires all Federal agencies to prepare a written compliance guide for each rule for which the agency is required by 5 U.S.C. 604 to prepare a regulatory flexibility analysis. The NRC, in compliance with the law, prepared the “Small Entity Compliance Guide” for the FY 2021 fee rule. The compliance guide was developed when the NRC completed the small entity biennial review for FY 2021. The NRC plans to continue to use this compliance guide for FY 2022 and has relabeled the compliance guide to reflect the current fiscal year. This compliance guide is available as indicated in the “Availability of Documents” section of this document.

XIV. Availability of Documents

The documents identified in the following table are available to interested persons through one or more of the following methods, as indicated.

Documents | ADAMS accession No./FR citation/web link
FY 2022 Final Rule Work Papers | ML22136A015.
OMB Circular A-25, “User Charges” | https://www.whitehouse.gov/wp-content/uploads/2017/11/Circular-025.pdf.
“Revision of Fee Schedules; Fee Recovery for Fiscal Year 2021,” dated June 16, 2021 | 86 FR 32146.
NUREG-1100, Volume 36, “Congressional Budget Justification: Fiscal Year 2021” (February 2020) | ML20024D764.
NUREG-1100, Volume 37, “Congressional Budget Justification: Fiscal Year 2022” (June 2021) | ML21181A336.
“Public Interest Exemption from Provisions in the Fiscal Year 2021 Fee Rule that Require Fees for Import/Export Licensing Actions,” dated August 20, 2021 | ML21209A553.
SECY-05-0164, “Annual Fee Calculation Method,” dated September 15, 2005 | ML052580332.
“Revision of Fee Schedules; Fee Recovery for Fiscal Year 2015,” dated June 30, 2015 | 80 FR 37432.
NUREG-1100, Volume 38, “Congressional Budget Justification: Fiscal Year 2023” (April 2022) | ML22089A188.
“Variable Annual Fee Structure for Small Modular Reactors,” dated May 24, 2016 | 81 FR 32617.
“Revision of Fee Schedules; 100% Fee Recovery, FY 1999,” dated June 10, 1999 | 64 FR 31447.
“Revision of Fee Schedules; Fee Recovery for FY 2002,” dated June 24, 2002 | 67 FR 42625.
“Revision of Fee Schedules; Fee Recovery for FY 2006,” dated May 30, 2006 | 71 FR 30721
SECY-16-0097, “Fee Setting Improvements and Fiscal Year 2017 Proposed Fee Rule,” dated August 15, 2016 | ML16194A365.
Staff Requirements Memorandum for SECY-16-0097, dated October 19, 2016 | ML16293A902.
“Receipts-Based NRC Size Standards,” dated February 17, 2022 | 87 FR 8943.
Fees Transformation Accomplishments | https://www.nrc.gov/about-nrc/regulatory/licensing/fees-transformation-accomplishments.html.
FY 2022 Regulatory Flexibility Analysis | ML22123A295.
FY 2022 U.S. Nuclear Regulatory Commission Small Entity Compliance Guide | ML22123A299.

List of Subjects

10 CFR Part 170

Byproduct material, Import and export licenses, Intergovernmental relations, Non-payment penalties, Nuclear energy, Nuclear materials, Nuclear power plants and reactors, Source material, Special nuclear material.

10 CFR Part 171

Annual charges, Approvals, Byproduct material, Holders of certificates, Intergovernmental relations, Nonpayment penalties, Nuclear materials, Nuclear power plants and reactors, Registrations, Source material, Special nuclear material.

For the reasons set out in the preamble and under the authority of the Atomic Energy Act of 1954, as amended, the Energy Reorganization Act of 1974, as amended, and 5 U.S.C. 552 and 553, the NRC is adopting the following amendments to 10 CFR parts 170 and 171:

PART 170—FEES FOR FACILITIES, MATERIALS, IMPORT AND EXPORT LICENSES, AND OTHER REGULATORY SERVICES UNDER THE ATOMIC ENERGY ACT OF 1954, AS AMENDED

1. The authority citation for part 170 continues to read as follows:

Authority: Atomic Energy Act of 1954, secs. 11, 161(w) (42 U.S.C. 2014, 2201(w)); Energy Reorganization Act of 1974, sec. 201 (42 U.S.C. 5841); 42 U.S.C. 2215; 31 U.S.C. 901, 902, 9701; 44 U.S.C. 3504 note.

§ 170.3 [Amended]

2. In § 170.3, remove the undesignated paragraph following the definition for Research reactor.

3. In § 170.11:

a. Revise paragraph (a)(1);

b. Redesignate paragraph (a)(13) as paragraph (d); and

c. Revise paragraph (c).

The revisions read as follows:

§ 170.11 Exemptions.

(a) * * *

(1) A special project that is a request/report submitted to the NRC—

(i) In response to a generic letter or NRC bulletin, where the request/report does not result in an amendment to the license, does not result in the review of an alternate method or reanalysis to meet the requirements of the generic letter, or does not involve an unreviewed safety issue;

(ii) When the NRC, at the time the request/report is submitted, plans to use the information to assist the NRC in generic regulatory improvements or efforts (e.g., rules, regulatory guides, regulations, policy statements, generic letters, or bulletins); or

(iii) When the NRC, at the time the request/report is submitted, plans to use the information in response to an NRC request from the Office Director level or above to resolve an identified safety, safeguards, or environmental issue.

* * * * *

(c) For purposes of paragraph (a)(1) of this section, a request for a fee exemption must be submitted to the Chief Financial Officer within 90 days of the date of the NRC's receipt of the request/report.

* * * * *

4. In § 170.12, revise paragraphs (b)(3) and (f) to read as follows.

§ 170.12 Payment of fees.

* * * * *

(b) * * *

(3) The NRC intends to bill each applicant or licensee at quarterly intervals for all accumulated costs for each application the applicant or licensee has on file for NRC review, until the review has been brought to an end, whether by issuance of a permit, license, approval, certificate, exemption, or other form of permission; by denial, withdrawal, or suspension of review of the application; or by postponement of action on the application by the applicant.

* * * * *

(f) Method of payment. All fee payments under 10 CFR part 170 are to be made payable to the U.S. Nuclear Regulatory Commission. The payments are to be made in U.S. funds by electronic funds transfer such as ACH (Automated Clearing House) using E.D.I. (Electronic Data Interchange), check, draft, money order, or credit card (submit electronic payment at www.Pay.gov or manual payment using the NRC Form 629, “Authorization for Payment by Credit Card”). Payment of invoices of $5,000 or more should be paid via ACH through the NRC's Lockbox Bank at the address indicated on the invoice. Credit card payments should be made up to the limit established by the credit card bank at the address indicated on the invoice. Specific written instructions for making electronic payments and credit card payments may be obtained by contacting the Office of the Chief Financial Officer at 301-415-7554. In accordance with Department of the Treasury requirements, refunds will only be made upon receipt of information on the payee's financial institution and bank accounts.

* * * * *

§ 170.20 [Amended]

5. In § 170.20, remove the dollar amount “$288” and add in its place the dollar amount “$290”.

6. In § 170.21, in table 1, revise the entry for “K. Import and export licenses” to read as follows:

§ 170.21 Schedule of fees for production and utilization facilities, review of standard referenced design approvals, special projects, inspections and import and export licenses.

* * * * *

Table 1 to § 170.21—Schedule of Facility Fees
[See footnotes at end of table]
Facility categories and type of fees | Fees ¹ ²
* * * * * * *
K. Import and export licenses: ⁶
Licenses for the import and export only of production or utilization facilities or the export only of components for production or utilization facilities issued under 10 CFR part 110
1. Application for import or export of production or utilization facilities ⁴ (including reactors and other facilities) and exports of components requiring Commission and Executive Branch review, for example, actions under 10 CFR 110.40(b)
Application—new license, or amendment; or license exemption request | N/A
2. Application for export of reactor and other components requiring Executive Branch review, for example, those actions under 10 CFR 110.41(a).
Application—new license, or amendment; or license exemption request | N/A
3. Application for export of components requiring the assistance of the Executive Branch to obtain foreign government assurances
Application—new license, or amendment; or license exemption request | N/A
4. Application for export of facility components and equipment not requiring Commission or Executive Branch review, or obtaining foreign government assurances
Application—new license, or amendment; or license exemption request | N/A
5. Minor amendment of any active export or import license, for example, to extend the expiration date, change domestic information, or make other revisions which do not involve any substantive changes to license terms or conditions or to the type of facility or component authorized for export and, therefore, do not require in-depth analysis or review or consultation with the Executive Branch, U.S. host state, or foreign government authorities
Minor amendment to license | N/A
¹ Fees will be charged for approvals issued under a specific exemption provision of the Commission's regulations under title 10 of the Code of Federal Regulations (e.g., 10 CFR 50.12, 10 CFR 73.5) and any other sections in effect now or in the future, regardless of whether the approval is in the form of a license amendment, letter of approval, safety evaluation report, or other form.
² Full cost fees will be determined based on the professional staff time and appropriate contractual support services expended. For applications currently on file and for which fees are determined based on the full cost expended for the review, the professional staff hours expended for the review of the application up to the effective date of the final rule will be determined at the professional rates in effect when the service was provided.
* * * * * * *
⁴ Imports only of major components for end-use at NRC-licensed reactors are authorized under NRC general import license in 10 CFR 110.27.
* * * * * * *
⁶ Because the resources for import and export licensing activities are identified as a fee-relief activity to be excluded from the fee-recoverable budget, import and export licensing actions will not incur fees.

7. In § 170.31, revise table 1 to read as follows:

§ 170.31 Schedule of fees for materials licenses and other regulatory services, including inspections, and import and export licenses.

* * * * *

Table 1 to § 170.31—Schedule of Materials Fees
[See footnotes at end of table]
Category of materials licenses and type of fees ¹ | Fees ² ³
1. Special nuclear material: ¹¹
A. (1) Licenses for possession and use of U-235 or plutonium for fuel fabrication activities
(a) Strategic Special Nuclear Material (High-Enriched Uranium) ⁶ [Program Code(s): 21213] | Full Cost.
(b) Low-Enriched Uranium in Dispersible Form Used for Fabrication of Power Reactor Fuel ⁶ [Program Code(s): 21210] | Full Cost.
(2) All other special nuclear materials licenses not included in Category 1.A. (1) which are licensed for fuel cycle activities.⁶
(a) Facilities with limited operations ⁶ [Program Code(s): 21240, 21310, 21320] | Full Cost.
(b) Gas centrifuge enrichment demonstration facilities.⁶ [Program Code(s): 21205] | Full Cost.
(c) Others, including hot cell facilities.⁶ [Program Code(s): 21130, 21133] | Full Cost.
B. Licenses for receipt and storage of spent fuel and reactor-related greater-than-Class C (GTCC) waste at an independent spent fuel storage installation (ISFSI) ⁶ [Program Code(s): 23200] | Full Cost.
C. Licenses for possession and use of special nuclear material of less than a critical mass as defined in § 70.4 of this chapter in sealed sources contained in devices used in industrial measuring systems, including x-ray fluorescence analyzers.⁴
Application [Program Code(s): 22140] | $1,300.
D. All other special nuclear material licenses, except licenses authorizing special nuclear material in sealed or unsealed form in combination that would constitute a critical mass, as defined in § 70.4 of this chapter, for which the licensee shall pay the same fees as those under Category 1.A.⁴
Application [Program Code(s): 22110, 22111, 22120, 22131, 22136, 22150, 22151, 22161, 22170, 23100, 23300, 23310] | $2,700.
E. Licenses or certificates for construction and operation of a uranium enrichment facility ⁶ [Program Code(s): 21200] | Full Cost.
F. Licenses for possession and use of special nuclear material greater than critical mass as defined in § 70.4 of this chapter, for development and testing of commercial products, and other non-fuel-cycle activities.⁴ ⁶ [Program Code(s): 22155] | Full Cost.
2. Source material: ¹¹
A. (1) Licenses for possession and use of source material for refining uranium mill concentrates to uranium hexafluoride or for deconverting uranium hexafluoride in the production of uranium oxides for disposal.⁶ [Program Code(s): 11400] | Full Cost.
(2) Licenses for possession and use of source material in recovery operations such as milling, in-situ recovery, heap-leaching, ore buying stations, ion-exchange facilities, and in processing of ores containing source material for extraction of metals other than uranium or thorium, including licenses authorizing the possession of byproduct waste material (tailings) from source material recovery operations, as well as licenses authorizing the possession and maintenance of a facility in a standby mode.⁶
(a) Conventional and Heap Leach facilities ⁶ [Program Code(s): 11100] | Full Cost.
(b) Basic In Situ Recovery facilities ⁶ [Program Code(s): 11500] | Full Cost.
(c) Expanded In Situ Recovery facilities ⁶ [Program Code(s): 11510] | Full Cost.
(d) In Situ Recovery Resin facilities ⁶ [Program Code(s): 11550] | Full Cost.
(e) Resin Toll Milling facilities ⁶ [Program Code(s): 11555] | Full Cost.
(f) Other facilities ⁶ [Program Code(s): 11700] | Full Cost.
(3) Licenses that authorize the receipt of byproduct material, as defined in Section 11e.(2) of the Atomic Energy Act, from other persons for possession and disposal, except those licenses subject to the fees in Category 2.A.(2) or Category 2.A.(4) ⁶ [Program Code(s): 11600, 12000] | Full Cost.
(4) Licenses that authorize the receipt of byproduct material, as defined in Section 11e.(2) of the Atomic Energy Act, from other persons for possession and disposal incidental to the disposal of the uranium waste tailings generated by the licensee's milling operations, except those licenses subject to the fees in Category 2.A.(2) ⁶ [Program Code(s): 12010] | Full Cost.
B. Licenses which authorize the possession, use, and/or installation of source material for shielding.⁷ ⁸
Application [Program Code(s): 11210] | $1,300.
C. Licenses to distribute items containing source material to persons exempt from the licensing requirements of part 40 of this chapter
Application [Program Code(s): 11240] | $6,200.
D. Licenses to distribute source material to persons generally licensed under part 40 of this chapter
Application [Program Code(s): 11230, 11231] | $2,900.
E. Licenses for possession and use of source material for processing or manufacturing of products or materials containing source material for commercial distribution
Application [Program Code(s): 11710] | $2,800.
F. All other source material licenses
Application [Program Code(s): 11200, 11220, 11221, 11300, 11800, 11810, 11820] | $2,800.
3. Byproduct material: ¹¹
A. Licenses of broad scope for the possession and use of byproduct material issued under parts 30 and 33 of this chapter for processing or manufacturing of items containing byproduct material for commercial distribution. Number of locations of use: 1-5
Application [Program Code(s): 03211, 03212, 03213] | $13,600.
(1). Licenses of broad scope for the possession and use of byproduct material issued under parts 30 and 33 of this chapter for processing or manufacturing of items containing byproduct material for commercial distribution. Number of locations of use: 6-20
Application [Program Code(s): 04010, 04012, 04014] | $18,100.
(2). Licenses of broad scope for the possession and use of byproduct material issued under parts 30 and 33 of this chapter for processing or manufacturing of items containing byproduct material for commercial distribution. Number of locations of use: more than 20
Application [Program Code(s): 04011, 04013, 04015] | $22,600.
B. Other licenses for possession and use of byproduct material issued under part 30 of this chapter for processing or manufacturing of items containing byproduct material for commercial distribution. Number of locations of use: 1-5
Application [Program Code(s): 03214, 03215, 22135, 22162] | $3,700.
(1). Other licenses for possession and use of byproduct material issued under part 30 of this chapter for processing or manufacturing of items containing byproduct material for commercial distribution. Number of locations of use: 6-20
Application [Program Code(s): 04110, 04112, 04114, 04116] | $5,000.
(2). Other licenses for possession and use of byproduct material issued under part 30 of this chapter for processing or manufacturing of items containing byproduct material for commercial distribution. Number of locations of use: more than 20
Application [Program Code(s): 04111, 04113, 04115, 04117] | $6,200.
C. Licenses issued under §§ 32.72 and/or 32.74 of this chapter that authorize the processing or manufacturing and distribution or redistribution of radiopharmaceuticals, generators, reagent kits, and/or sources and devices containing byproduct material. This category does not apply to licenses issued to nonprofit educational institutions whose processing or manufacturing is exempt under § 170.11(a)(4). Number of locations of use: 1-5
Application [Program Code(s): 02500, 02511, 02513] | $5,400.
(1). Licenses issued under §§ 32.72 and/or 32.74 of this chapter that authorize the processing or manufacturing and distribution or redistribution of radiopharmaceuticals, generators, reagent kits, and/or sources and devices containing byproduct material. This category does not apply to licenses issued to nonprofit educational institutions whose processing or manufacturing is exempt under § 170.11(a)(4). Number of locations of use: 6-20
Application [Program Code(s): 04210, 04212, 04214] | $7,200.
(2). Licenses issued under §§ 32.72 and/or 32.74 of this chapter that authorize the processing or manufacturing and distribution or redistribution of radiopharmaceuticals, generators, reagent kits, and/or sources and devices containing byproduct material. This category does not apply to licenses issued to nonprofit educational institutions whose processing or manufacturing is exempt under § 170.11(a)(4). Number of locations of use: more than 20
Application [Program Code(s): 04211, 04213, 04215] | $9,000.
D. [Reserved] | N/A.
E. Licenses for possession and use of byproduct material in sealed sources for irradiation of materials in which the source is not removed from its shield (self-shielded units)
Application [Program Code(s): 03510, 03520] | $3,300.
F. Licenses for possession and use of less than or equal to 10,000 curies of byproduct material in sealed sources for irradiation of materials in which the source is exposed for irradiation purposes. This category also includes underwater irradiators for irradiation of materials where the source is not exposed for irradiation purposes
Application [Program Code(s): 03511] | $6,800.
G. Licenses for possession and use of greater than 10,000 curies of byproduct material in sealed sources for irradiation of materials in which the source is exposed for irradiation purposes. This category also includes underwater irradiators for irradiation of materials where the source is not exposed for irradiation purposes
Application [Program Code(s): 03521] | $64,800.
H. Licenses issued under subpart A of part 32 of this chapter to distribute items containing byproduct material that require device review to persons exempt from the licensing requirements of part 30 of this chapter. The category does not include specific licenses authorizing redistribution of items that have been authorized for distribution to persons exempt from the licensing requirements of part 30 of this chapter
Application [Program Code(s): 03254, 03255, 03257] | $6,900.
I. Licenses issued under subpart A of part 32 of this chapter to distribute items containing byproduct material or quantities of byproduct material that do not require device evaluation to persons exempt from the licensing requirements of part 30 of this chapter. This category does not include specific licenses authorizing redistribution of items that have been authorized for distribution to persons exempt from the licensing requirements of part 30 of this chapter
Application [Program Code(s): 03250, 03251, 03253, 03256] | $15,400.
J. Licenses issued under subpart B of part 32 of this chapter to distribute items containing byproduct material that require sealed source and/or device review to persons generally licensed under part 31 of this chapter. This category does not include specific licenses authorizing redistribution of items that have been authorized for distribution to persons generally licensed under part 31 of this chapter
Application [Program Code(s): 03240, 03241, 03243] | $2,100.
K. Licenses issued under subpart B of part 32 of this chapter to distribute items containing byproduct material or quantities of byproduct material that do not require sealed source and/or device review to persons generally licensed under part 31 of this chapter. This category does not include specific licenses authorizing redistribution of items that have been authorized for distribution to persons generally licensed under part 31 of this chapter
Application [Program Code(s): 03242, 03244] | $1,200.
L. Licenses of broad scope for possession and use of byproduct material issued under parts 30 and 33 of this chapter for research and development that do not authorize commercial distribution. Number of locations of use: 1-5
Application [Program Code(s): 01100, 01110, 01120, 03610, 03611, 03612, 03613] | $5,700.
(1) Licenses of broad scope for possession and use of byproduct material issued under parts 30 and 33 of this chapter for research and development that do not authorize commercial distribution. Number of locations of use: 6-20
Application [Program Code(s): 04610, 04612, 04614, 04616, 04618, 04620, 04622] | $7,600.
(2) Licenses of broad scope for possession and use of byproduct material issued under parts 30 and 33 of this chapter for research and development that do not authorize commercial distribution. Number of locations of use: more than 20
Application [Program Code(s): 04611, 04613, 04615, 04617, 04619, 04621, 04623] | $9,500.
M. Other licenses for possession and use of byproduct material issued under part 30 of this chapter for research and development that do not authorize commercial distribution
Application [Program Code(s): 03620] | $8,600.
N. Licenses that authorize services for other licensees, except:
(1) Licenses that authorize only calibration and/or leak testing services are subject to the fees specified in fee Category 3.P.; and
(2) Licenses that authorize waste disposal services are subject to the fees specified in fee Categories 4.A., 4.B., and 4.C.¹³
Application [Program Code(s): 03219, 03225, 03226] | $9,300.
O. Licenses for possession and use of byproduct material issued under part 34 of this chapter for industrial radiography operations. Number of locations of use: 1-5
Application [Program Code(s): 03310, 03320] | $9,200.
(1). Licenses for possession and use of byproduct material issued under part 34 of this chapter for industrial radiography operations. Number of locations of use: 6-20
Application [Program Code(s): 04310, 04312] | $12,300.
(2). Licenses for possession and use of byproduct material issued under part 34 of this chapter for industrial radiography operations. Number of locations of use: more than 20
Application [Program Code(s): 04311, 04313] | $15,400.
P. All other specific byproduct material licenses, except those in Categories 4.A. through 9.D.⁹ Number of locations of use: 1-5.
Application [Program Code(s): 02400, 02410, 03120, 03121, 03122, 03123, 03124, 03130, 03140, 03220, 03221, 03222, 03800, 03810, 22130] | $6,600.
(1). All other specific byproduct material licenses, except those in Categories 4.A. through 9.D.⁹ Number of locations of use: 6-20.
Application [Program Code(s): 04410, 04412, 04414, 04416, 04418, 04420, 04422, 04424, 04426, 04428, 04430, 04432, 04434, 04436, 04438] | $8,800.
(2). All other specific byproduct material licenses, except those in Categories 4.A. through 9.D.⁹ Number of locations of use: more than 20
Application [Program Code(s): 04411, 04413, 04415, 04417, 04419, 04421, 04423, 04425, 04427, 04429, 04431, 04433, 04435, 04437, 04439] | $11,000.
Q. Registration of a device(s) generally licensed under part 31 of this chapter
Registration | $400.
R. Possession of items or products containing radium-226 identified in § 31.12 of this chapter which exceed the number of items or limits specified in that section.⁵
1. Possession of quantities exceeding the number of items or limits in § 31.12(a)(4) or (5) of this chapter but less than or equal to 10 times the number of items or limits specified
Application [Program Code(s): 02700] | $2,700.
2. Possession of quantities exceeding 10 times the number of items or limits specified in § 31.12(a)(4) or (5) of this chapter
Application [Program Code(s): 02710] | $2,600.
S. Licenses for production of accelerator-produced radionuclides
Application [Program Code(s): 03210] | $14,800.
4. Waste disposal and processing: ¹¹
A. Licenses specifically authorizing the receipt of waste byproduct material, source material, or special nuclear material from other persons for the purpose of contingency storage or commercial land disposal by the licensee; or licenses authorizing contingency storage of low-level radioactive waste at the site of nuclear power reactors; or licenses for receipt of waste from other persons for incineration or other treatment, packaging of resulting waste and residues, and transfer of packages to another person authorized to receive or dispose of waste material
Application [Program Code(s): 03231, 03233, 03236, 06100, 06101] | Full Cost.
B. Licenses specifically authorizing the receipt of waste byproduct material, source material, or special nuclear material from other persons for the purpose of packaging or repackaging the material. The licensee will dispose of the material by transfer to another person authorized to receive or dispose of the material
Application [Program Code(s): 03234] | $7,200.
C. Licenses specifically authorizing the receipt of prepackaged waste byproduct material, source material, or special nuclear material from other persons. The licensee will dispose of the material by transfer to another person authorized to receive or dispose of the material
Application [Program Code(s): 03232] | $5,200.
5. Well logging: ¹¹
A. Licenses for possession and use of byproduct material, source material, and/or special nuclear material for well logging, well surveys, and tracer studies other than field flooding tracer studies.
Application [Program Code(s): 03110, 03111, 03112] | $4,800.
B. Licenses for possession and use of byproduct material for field flooding tracer studies
Licensing [Program Code(s): 03113] | Full Cost.
6. Nuclear laundries: ¹¹
A. Licenses for commercial collection and laundry of items contaminated with byproduct material, source material, or special nuclear material
Application [Program Code(s): 03218] | $23,100.
7. Medical licenses: ¹¹
A. Licenses issued under parts 30, 35, 40, and 70 of this chapter for human use of byproduct material, source material, or special nuclear material in sealed sources contained in gamma stereotactic radiosurgery units, teletherapy devices, or similar beam therapy devices. Number of locations of use: 1-5.
Application [Program Code(s): 02300, 02310] | $11,600.
(1). Licenses issued under parts 30, 35, 40, and 70 of this chapter for human use of byproduct material, source material, or special nuclear material in sealed sources contained in gamma stereotactic radiosurgery units, teletherapy devices, or similar beam therapy devices. Number of locations of use: 6-20
Application [Program Code(s): 04510, 04512] | $15,400.
(2). Licenses issued under parts 30, 35, 40, and 70 of this chapter for human use of byproduct material, source material, or special nuclear material in sealed sources contained in gamma stereotactic radiosurgery units, teletherapy devices, or similar beam therapy devices. Number of locations of use: more than 20
Application [Program Code(s): 04511, 04513] | $19,300.
B. Licenses of broad scope issued to medical institutions or two or more physicians under parts 30, 33, 35, 40, and 70 of this chapter authorizing research and development, including human use of byproduct material, except licenses for byproduct material, source material, or special nuclear material in sealed sources contained in teletherapy devices. This category also includes the possession and use of source material for shielding when authorized on the same license. Number of locations of use: 1-5
Application [Program Code(s): 02110] | $9,100.
(1). Licenses of broad scope issued to medical institutions or two or more physicians under parts 30, 33, 35, 40, and 70 of this chapter authorizing research and development, including human use of byproduct material, except licenses for byproduct material, source material, or special nuclear material in sealed sources contained in teletherapy devices. This category also includes the possession and use of source material for shielding when authorized on the same license. Number of locations of use: 6-20
Application [Program Code(s): 04710] | $12,000.
(2). Licenses of broad scope issued to medical institutions or two or more physicians under parts 30, 33, 35, 40, and 70 of this chapter authorizing research and development, including human use of byproduct material, except licenses for byproduct material, source material, or special nuclear material in sealed sources contained in teletherapy devices. This category also includes the possession and use of source material for shielding when authorized on the same license. Number of locations of use: more than 20
Application [Program Code(s): 04711] | $15,000.
C. Other licenses issued under parts 30, 35, 40, and 70 of this chapter for human use of byproduct material, source material, and/or special nuclear material, except licenses for byproduct material, source material, or special nuclear material in sealed sources contained in teletherapy devices.¹⁰ Number of locations of use: 1-5
Application [Program Code(s): 02120, 02121, 02200, 02201, 02210, 02220, 02230, 02231, 02240, 22160] | $11,000.
(1). Other licenses issued under parts 30, 35, 40, and 70 of this chapter for human use of byproduct material, source material, and/or special nuclear material, except licenses for byproduct material, source material, or special nuclear material in sealed sources contained in teletherapy devices.¹⁰ Number of locations of use: 6-20
Application [Program Code(s): 04810, 04812, 04814, 04816, 04818, 04820, 04822, 04824, 04826, 04828] | $9,100.
(2). Other licenses issued under parts 30, 35, 40, and 70 of this chapter for human use of byproduct material, source material, and/or special nuclear material, except licenses for byproduct material, source material, or special nuclear material in sealed sources contained in teletherapy devices.¹⁰ Number of locations of use: more than 20
Application [Program Code(s): 04811, 04813, 04815, 04817, 04819, 04821, 04823, 04825, 04827, 04829] | $11,400.
8. Civil defense: ¹¹
A. Licenses for possession and use of byproduct material, source material, or special nuclear material for civil defense activities.
Application [Program Code(s): 03710] | $2,700.
9. Device, product, or sealed source safety evaluation:
A. Safety evaluation of devices or products containing byproduct material, source material, or special nuclear material, except reactor fuel devices, for commercial distribution
Application—each device | $18,100.
B. Safety evaluation of devices or products containing byproduct material, source material, or special nuclear material manufactured in accordance with the unique specifications of, and for use by, a single applicant, except reactor fuel devices
Application—each device | $9,400.
C. Safety evaluation of sealed sources containing byproduct material, source material, or special nuclear material, except reactor fuel, for commercial distribution
Application—each source | $5,500.
D. Safety evaluation of sealed sources containing byproduct material, source material, or special nuclear material, manufactured in accordance with the unique specifications of, and for use by, a single applicant, except reactor fuel
Application—each source | $1,100.
10. Transportation of radioactive material:
A. Evaluation of casks, packages, and shipping containers
1. Spent fuel, high-level waste, and plutonium air packages | Full Cost.
2. Other casks | Full Cost.
B. Quality assurance program approvals issued under part 71 of this chapter
1. Users and Fabricators
Application | $4,400.
Inspections | Full Cost.
2. Users
Application | $4,400.
Inspections | Full Cost.
C. Evaluation of security plans, route approvals, route surveys, and transportation security devices (including immobilization devices) | Full Cost.
11. Review of standardized spent fuel facilities. | Full Cost.
12. Special projects:
Including approvals, pre-application/licensing activities, and inspections
Application [Program Code: 25110] | Full Cost.
13. A. Spent fuel storage cask certificate of compliance. | Full Cost.
B. Inspections related to storage of spent fuel under § 72.210 of this chapter | Full Cost.
14. Decommissioning/Reclamation ¹¹
A. Byproduct, source, or special nuclear material licenses and other approvals authorizing decommissioning, decontamination, reclamation, or site restoration activities under parts 30, 40, 70, 72, and 76 of this chapter, including master materials licenses (MMLs). The transition to this fee category occurs when a licensee has permanently ceased principal activities. [Program Code(s): 03900, 11900, 21135, 21215, 21325, 22200] | Full Cost.
B. Site-specific decommissioning activities associated with unlicensed sites, including MMLs, regardless of whether or not the sites have been previously licensed | Full Cost.
15. Import and Export licenses: ¹²
Licenses issued under part 110 of this chapter for the import and export only of special nuclear material, source material, tritium and other byproduct material, and the export only of heavy water, or nuclear grade graphite (fee categories 15.A. through 15.E.)
A. Application for export or import of nuclear materials, including radioactive waste requiring Commission and Executive Branch review, for example, those actions under § 110.40(b) of this chapter
Application—new license, or amendment; or license exemption request | N/A.
B. Application for export or import of nuclear material, including radioactive waste, requiring Executive Branch review, but not Commission review. This category includes applications for the export and import of radioactive waste and requires the NRC to consult with domestic host state authorities (i.e., Low-Level Radioactive Waste Compact Commission, the U.S. Environmental Protection Agency, etc.)
Application—new license, or amendment; or license exemption request | N/A.
C. Application for export of nuclear material, for example, routine reloads of low enriched uranium reactor fuel and/or natural uranium source material requiring the assistance of the Executive Branch to obtain foreign government assurances
Application—new license, or amendment; or license exemption request | N/A.
D. Application for export or import of nuclear material not requiring Commission or Executive Branch review, or obtaining foreign government assurances.
Application—new license, or amendment; or license exemption request. | N/A.
E. Minor amendment of any active export or import license, for example, to extend the expiration date, change domestic information, or make other revisions which do not involve any substantive changes to license terms and conditions or to the type/quantity/chemical composition of the material authorized for export and, therefore, do not require in-depth analysis, review, or consultations with other Executive Branch, U.S. host state, or foreign government authorities
Minor amendment | N/A.
Licenses issued under part 110 of this chapter for the import and export only of Category 1 and Category 2 quantities of radioactive material listed in appendix P to part 110 of this chapter (fee categories 15.F. through 15.R.).
Category 1 (Appendix P, 10 CFR Part 110) Exports:
F. Application for export of appendix P Category 1 materials requiring Commission review (e.g., exceptional circumstance review under § 110.42(e)(4) of this chapter) and to obtain one government-to-government consent for this process. For additional consent see fee category 15.I
Application—new license, or amendment; or license exemption request | N/A.
G. Application for export of appendix P Category 1 materials requiring Executive Branch review and to obtain one government-to-government consent for this process. For additional consents see fee category 15.I
Application—new license, or amendment; or license exemption request | N/A.
H. Application for export of appendix P Category 1 materials and to obtain one government-to-government consent for this process. For additional consents see fee category 15.I
Application—new license, or amendment; or license exemption request | N/A.
I. Requests for each additional government-to-government consent in support of an export license application or active export license
Application—new license, or amendment; or license exemption request | N/A.
Category 2 (Appendix P, 10 CFR Part 110) Exports:
J. Application for export of appendix P Category 2 materials requiring Commission review (e.g., exceptional circumstance review under § 110.42(e)(4) of this chapter)
Application—new license, or amendment; or license exemption request | N/A.
K. Applications for export of appendix P Category 2 materials requiring Executive Branch review
Application—new license, or amendment; or license exemption request | N/A.
L. Application for the export of Category 2 materials
Application—new license, or amendment; or license exemption request | N/A.
M. [Reserved] | N/A.
N. [Reserved] | N/A.
O. [Reserved] | N/A.
P. [Reserved] | N/A.
Q. [Reserved] | N/A.
Minor Amendments (Category 1 and 2, Appendix P, 10 CFR Part 110, Export):
R. Minor amendment of any active export license, for example, to extend the expiration date, change domestic information, or make other revisions which do not involve any substantive changes to license terms and conditions or to the type/quantity/chemical composition of the material authorized for export and, therefore, do not require in-depth analysis, review, or consultations with other Executive Branch, U.S. host state, or foreign authorities
Minor amendment | N/A.
16. Reciprocity:
Agreement State licensees who conduct activities under the reciprocity provisions of § 150.20 of this chapter
Application | $2,700.
17. Master materials licenses of broad scope issued to Government agencies.
Application [Program Code(s): 03614] | Full Cost.
18. Department of Energy.
A. Certificates of compliance. Evaluation of casks, packages, and shipping containers (including spent fuel, high-level waste, and other casks, and plutonium air packages) | Full Cost.
B. Uranium Mill Tailings Radiation Control Act (UMTRCA) activities. | Full Cost.
¹ Types of fees—Separate charges, as shown in the schedule, will be assessed for pre-application consultations and reviews; applications for new licenses, approvals, or license terminations; possession-only licenses; issuances of new licenses and approvals; certain amendments and renewals to existing licenses and approvals; safety evaluations of sealed sources and devices; generally licensed device registrations; and certain inspections. The following guidelines apply to these charges:
(1) Application and registration fees. Applications for new materials licenses and export and import licenses; applications to reinstate expired, terminated, or inactive licenses, except those subject to fees assessed at full costs; applications filed by Agreement State licensees to register under the general license provisions of 10 CFR 150.20; and applications for amendments to materials licenses that would place the license in a higher fee category or add a new fee category must be accompanied by the prescribed application fee for each category.
(i) Applications for licenses covering more than one fee category of special nuclear material or source material must be accompanied by the prescribed application fee for the highest fee category.
(ii) Applications for new licenses that cover both byproduct material and special nuclear material in sealed sources for use in gauging devices will pay the appropriate application fee for fee category 1.C. only.
(2) Licensing fees. Fees for reviews of applications for new licenses, renewals, and amendments to existing licenses, pre-application consultations and other documents submitted to the NRC for review, and project manager time for fee categories subject to full cost fees are due upon notification by the Commission in accordance with § 170.12(b).
(3) Amendment fees. Applications for amendments to export and import licenses must be accompanied by the prescribed amendment fee for each license affected. An application for an amendment to an export or import license or approval classified in more than one fee category must be accompanied by the prescribed amendment fee for the category affected by the amendment, unless the amendment is applicable to two or more fee categories, in which case the amendment fee for the highest fee category would apply.
(4) Inspection fees. Inspections resulting from investigations conducted by the Office of Investigations and nonroutine inspections that result from third-party allegations are not subject to fees. Inspection fees are due upon notification by the Commission in accordance with § 170.12(c).
(5) Generally licensed device registrations under 10 CFR 31.5. Submittals of registration information must be accompanied by the prescribed fee.
² Fees will be charged for approvals issued under a specific exemption provision of the Commission's regulations under title 10 of the Code of Federal Regulations (e.g., 10 CFR 30.11, 40.14, 70.14, 73.5, and any other sections in effect now or in the future), regardless of whether the approval is in the form of a license amendment, letter of approval, safety evaluation report, or other form. In addition to the fee shown, an applicant may be assessed an additional fee for sealed source and device evaluations as shown in fee categories 9.A. through 9.D.
³ Full cost fees will be determined based on the professional staff time multiplied by the appropriate professional hourly rate established in § 170.20 in effect when the service is provided, and the appropriate contractual support services expended.
⁴ Licensees paying fees under categories 1.A., 1.B., and 1.E. are not subject to fees under categories 1.C., 1.D. and 1.F. for sealed sources authorized in the same license, except for an application that deals only with the sealed sources authorized by the license.
⁵ Persons who possess radium sources that are used for operational purposes in another fee category are not also subject to the fees in this category. (This exception does not apply if the radium sources are possessed for storage only.)
⁶ Licensees subject to fees under fee categories 1.A., 1.B., 1.E., or 2.A. must pay the largest applicable fee and are not subject to additional fees listed in this table.
⁷ Licensees paying fees under 3.C., 3.C.1, or 3.C.2 are not subject to fees under 2.B. for possession and shielding authorized on the same license.
⁸ Licensees paying fees under 7.C. are not subject to fees under 2.B. for possession and shielding authorized on the same license.
⁹ Licensees paying fees under 3.N. are not subject to paying fees under 3.P., 3.P.1, or 3.P.2 for calibration or leak testing services authorized on the same license.
¹⁰ Licensees paying fees under 7.B., 7.B.1, or 7.B.2 are not subject to paying fees under 7.C., 7.C.1, or 7.C.2. for broad scope licenses issued under parts 30, 35, 40, and 70 of this chapter for human use of byproduct material, source material, and/or special nuclear material, except licenses for byproduct material, source material, or special nuclear material in sealed sources contained in teletherapy devices authorized on the same license.
¹¹ A materials license (or part of a materials license) that transitions to fee category 14.A is assessed full-cost fees under 10 CFR part 170, but is not assessed an annual fee under 10 CFR part 171. If only part of a materials license is transitioned to fee category 14.A, the licensee may be charged annual fees (and any applicable 10 CFR part 170 fees) for other activities authorized under the license that are not in decommissioning status.
¹² Because the resources for import and export licensing activities are identified as a fee-relief activity to be excluded from the fee-recoverable budget, import and export licensing actions will not incur fees.
¹³ Licensees paying fees under 4.A., 4.B. or 4.C. are not subject to paying fees under 3.N. licenses that authorize services for other licensees authorized on the same license.

PART 171—ANNUAL FEES FOR REACTOR LICENSES AND FUEL CYCLE LICENSES AND MATERIALS LICENSES, INCLUDING HOLDERS OF CERTIFICATES OF COMPLIANCE, REGISTRATIONS, AND QUALITY ASSURANCE PROGRAM APPROVALS AND GOVERNMENT AGENCIES LICENSED BY THE NRC

8. The authority citation for part 171 continues to read as follows:

Authority: Atomic Energy Act of 1954, secs. 11, 161(w), 223, 234 (42 U.S.C. 2014, 2201(w), 2273, 2282); Energy Reorganization Act of 1974, sec. 201 (42 U.S.C. 5841); 42 U.S.C. 2215; 44 U.S.C. 3504 note.

9. In § 171.15, revise paragraphs (b)(1), (b)(2) introductory text, (c)(1), (c)(2) introductory text, and (e) to read as follows:

§ 171.15 Annual fees: Non-power production or utilization licenses, reactor licenses, and independent spent fuel storage licenses.

* * * * *

(b)(1) The FY 2022 annual fee for each operating power reactor that must be collected by September 30, 2022, is $5,165,000.

(2) The FY 2022 annual fees are comprised of a base annual fee for power reactors licensed to operate, a base spent fuel storage/reactor decommissioning annual fee and associated additional charges. The activities comprising the spent fuel storage/reactor decommissioning base annual fee are shown in paragraphs (c)(2)(i) and (ii) of this section. The activities comprising the FY 2022 base annual fee for operating power reactors are as follows:

* * * * *

(c)(1) The FY 2022 annual fee for each power reactor holding a 10 CFR part 50 license or combined license issued under 10 CFR part 52 that is in a decommissioning or possession-only status and has spent fuel onsite, and for each independent spent fuel storage 10 CFR part 72 licensee who does not hold a 10 CFR part 50 license or a 10 CFR part 52 combined license, is $227,000.

(2) The FY 2022 annual fee is comprised of a base spent fuel storage/reactor decommissioning annual fee (which is also included in the operating power reactor annual fee shown in paragraph (b) of this section). The activities comprising the FY 2022 spent fuel storage/reactor decommissioning rebaselined annual fee are:

* * * * *

(e) The FY 2022 annual fee for licensees authorized to operate one or more non-power production or utilization facilities under a single 10 CFR part 50 license, unless the reactor is exempted from fees under § 171.11(b), is $90,100.

10. In § 171.16, revise paragraphs (b) introductory text and (d) to read as follows:

§ 171.16 Annual fees: Materials licensees, holders of certificates of compliance, holders of sealed source and device registrations, holders of quality assurance program approvals, and government agencies licensed by the NRC.

* * * * *

(b) The FY 2022 annual fee is comprised of a base annual fee and associated additional charges. The base FY 2022 annual fee is the sum of budgeted costs for the following activities:

* * * * *

(d) The FY 2022 annual fees for materials licensees and holders of certificates, registrations, or approvals subject to fees under this section are shown in table 2 to this paragraph (d):

Table 2 to Paragraph (d)—Schedule of Materials Annual Fees and Fees for Government Agencies Licensed by NRC
[See footnotes at end of table]
Category of materials licenses | Annual fees ¹ ² ³
1. Special nuclear material:
A. (1) Licenses for possession and use of U-235 or plutonium for fuel fabrication activities.
(a) Strategic Special Nuclear Material (High Enriched Uranium) ¹⁵ [Program Code(s): 21213] | $4,334,000
(b) Low Enriched Uranium in Dispersible Form Used for Fabrication of Power Reactor Fuel ¹⁵ [Program Code(s): 21210] | 1,469,000
(2) All other special nuclear materials licenses not included in Category 1.A.(1) which are licensed for fuel cycle activities
(a) Facilities with limited operations ¹⁵ [Program Code(s): 21310, 21320] | 968,000
(b) Gas centrifuge enrichment demonstration facility ¹⁵ [Program Code(s): 21205] | N/A
(c) Others, including hot cell facility ¹⁵ [Program Code(s): 21130, 21133] | N/A
B. Licenses for receipt and storage of spent fuel and reactor-related Greater than Class C (GTCC) waste at an independent spent fuel storage installation (ISFSI) ¹¹ ¹⁵ [Program Code(s): 23200] | N/A
C. Licenses for possession and use of special nuclear material of less than a critical mass, as defined in § 70.4 of this chapter, in sealed sources contained in devices used in industrial measuring systems, including x-ray fluorescence analyzers. [Program Code(s): 22140] | 2,400
D. All other special nuclear material licenses, except licenses authorizing special nuclear material in sealed or unsealed form in combination that would constitute a critical mass, as defined in § 70.4 of this chapter, for which the licensee shall pay the same fees as those under Category 1.A. [Program Code(s): 22110, 22111, 22120, 22131, 22136, 22150, 22151, 22161, 22170, 23100, 23300, 23310] | 5,800
E. Licenses or certificates for the operation of a uranium enrichment facility ¹⁵ [Program Code(s): 21200] | 1,888,000
F. Licenses for possession and use of special nuclear materials greater than critical mass, as defined in § 70.4 of this chapter, for development and testing of commercial products, and other non-fuel cycle activities.⁴ [Program Code: 22155] | 4,300
2. Source material:
A. (1) Licenses for possession and use of source material for refining uranium mill concentrates to uranium hexafluoride or for deconverting uranium hexafluoride in the production of uranium oxides for disposal.¹⁵ [Program Code: 11400] | 436,000
(2) Licenses for possession and use of source material in recovery operations such as milling, in-situ recovery, heap-leaching, ore buying stations, ion-exchange facilities and in-processing of ores containing source material for extraction of metals other than uranium or thorium, including licenses authorizing the possession of byproduct waste material (tailings) from source material recovery operations, as well as licenses authorizing the possession and maintenance of a facility in a standby mode.
(a) Conventional and Heap Leach facilities.¹⁵ [Program Code(s): 11100] | N/A
(b) Basic In Situ Recovery facilities.¹⁵ [Program Code(s): 11500] | 42,000
(c) Expanded In Situ Recovery facilities ¹⁵ [Program Code(s): 11510] | N/A
(d) In Situ Recovery Resin facilities.¹⁵ [Program Code(s): 11550] | ⁵ N/A
(e) Resin Toll Milling facilities.¹⁵ [Program Code(s): 11555] | ⁵ N/A
(f) Other facilities ⁶ [Program Code(s): 11700] | ⁵ N/A
(3) Licenses that authorize the receipt of byproduct material, as defined in Section 11e.(2) of the Atomic Energy Act, from other persons for possession and disposal, except those licenses subject to the fees in Category 2.A.(2) or Category 2.A.(4) ¹⁵ [Program Code(s): 11600, 12000] | ⁵ N/A
(4) Licenses that authorize the receipt of byproduct material, as defined in Section 11e.(2) of the Atomic Energy Act, from other persons for possession and disposal incidental to the disposal of the uranium waste tailings generated by the licensee's milling operations, except those licenses subject to the fees in Category 2.A.(2) ¹⁵ [Program Code(s): 12010] | N/A
B. Licenses which authorize the possession, use, and/or installation of source material for shielding.¹⁶ ¹⁷ Application [Program Code(s): 11210] | 2,700
C. Licenses to distribute items containing source material to persons exempt from the licensing requirements of part 40 of this chapter. [Program Code: 11240] | 9,000
D. Licenses to distribute source material to persons generally licensed under part 40 of this chapter. [Program Code(s): 11230 and 11231] | 5,100
E. Licenses for possession and use of source material for processing or manufacturing of products or materials containing source material for commercial distribution. [Program Code: 11710] | 6,500
F. All other source material licenses. [Program Code(s): 11200, 11220, 11221, 11300, 11800, 11810, 11820] | 8,800
3. Byproduct material:
A. Licenses of broad scope for possession and use of byproduct material issued under parts 30 and 33 of this chapter for processing or manufacturing of items containing byproduct material for commercial distribution. Number of locations of use: 1-5. [Program Code(s): 03211, 03212, 03213] | 27,800
(1). Licenses of broad scope for the possession and use of byproduct material issued under parts 30 and 33 of this chapter for processing or manufacturing of items containing byproduct material for commercial distribution. Number of locations of use: 6-20. [Program Code(s): 04010, 04012, 04014] | 37,000
(2). Licenses of broad scope for the possession and use of byproduct material issued under parts 30 and 33 of this chapter for processing or manufacturing of items containing byproduct material for commercial distribution. Number of locations of use: more than 20. [Program Code(s): 04011, 04013, 04015] | 46,200
B. Other licenses for possession and use of byproduct material issued under part 30 of this chapter for processing or manufacturing of items containing byproduct material for commercial distribution. Number of locations of use: 1-5. [Program Code(s): 03214, 03215, 22135, 22162] | 9,700
(1). Other licenses for possession and use of byproduct material issued under part 30 of this chapter for processing or manufacturing of items containing byproduct material for commercial distribution. Number of locations of use: 6-20. [Program Code(s): 04110, 04112, 04114, 04116] | 12,900
(2). Other licenses for possession and use of byproduct material issued under part 30 of this chapter for processing or manufacturing of items containing byproduct material for commercial distribution. Number of locations of use: more than 20. [Program Code(s): 04111, 04113, 04115, 04117] | 16,000
C. Licenses issued under §§ 32.72 and/or 32.74 of this chapter that authorize the processing or manufacturing and distribution or redistribution of radiopharmaceuticals, generators, reagent kits, and/or sources and devices containing byproduct material. This category does not apply to licenses issued to nonprofit educational institutions whose processing or manufacturing is exempt under § 170.11(a)(4) of this chapter. Number of locations of use: 1-5. [Program Code(s): 02500, 02511, 02513] | 9,100
(1). Licenses issued under §§ 32.72 and/or 32.74 of this chapter that authorize the processing or manufacturing and distribution or redistribution of radiopharmaceuticals, generators, reagent kits, and/or sources and devices containing byproduct material. This category does not apply to licenses issued to nonprofit educational institutions whose processing or manufacturing is exempt under § 170.11(a)(4). Number of locations of use: 6-20. [Program Code(s): 04210, 04212, 04214] | 12,100
(2). Licenses issued under §§ 32.72 and/or 32.74 of this chapter that authorize the processing or manufacturing and distribution or redistribution of radiopharmaceuticals, generators, reagent kits, and/or sources and devices containing byproduct material. This category does not apply to licenses issued to nonprofit educational institutions whose processing or manufacturing is exempt under § 170.11(a)(4). Number of locations of use: more than 20. [Program Code(s): 04211, 04213, 04215] | 16,500
D. [Reserved] | ⁵ N/A
E. Licenses for possession and use of byproduct material in sealed sources for irradiation of materials in which the source is not removed from its shield (self-shielded units). [Program Code(s): 03510, 03520] | 10,000
F. Licenses for possession and use of less than or equal to 10,000 curies of byproduct material in sealed sources for irradiation of materials in which the source is exposed for irradiation purposes. This category also includes underwater irradiators for irradiation of materials in which the source is not exposed for irradiation purposes. [Program Code(s): 03511] | 9,100
G. Licenses for possession and use of greater than 10,000 curies of byproduct material in sealed sources for irradiation of materials in which the source is exposed for irradiation purposes. This category also includes underwater irradiators for irradiation of materials in which the source is not exposed for irradiation purposes. [Program Code(s): 03521] | 72,700
H. Licenses issued under subpart A of part 32 of this chapter to distribute items containing byproduct material that require device review to persons exempt from the licensing requirements of part 30 of this chapter, except specific licenses authorizing redistribution of items that have been authorized for distribution to persons exempt from the licensing requirements of part 30 of this chapter. [Program Code(s): 03254, 03255, 03257] | 8,700
I. Licenses issued under subpart A of part 32 of this chapter to distribute items containing byproduct material or quantities of byproduct material that do not require device evaluation to persons exempt from the licensing requirements of part 30 of this chapter, except for specific licenses authorizing redistribution of items that have been authorized for distribution to persons exempt from the licensing requirements of part 30 of this chapter. [Program Code(s): 03250, 03251, 03253, 03256] | 17,500
J. Licenses issued under subpart B of part 32 of this chapter to distribute items containing byproduct material that require sealed source and/or device review to persons generally licensed under part 31 of this chapter, except specific licenses authorizing redistribution of items that have been authorized for distribution to persons generally licensed under part 31 of this chapter. [Program Code(s): 03240, 03241, 03243] | 3,600
K. Licenses issued under subpart B of part 32 of this chapter to distribute items containing byproduct material or quantities of byproduct material that do not require sealed source and/or device review to persons generally licensed under part 31 of this chapter, except specific licenses authorizing redistribution of items that have been authorized for distribution to persons generally licensed under part 31 of this chapter. [Program Code(s): 03242, 03244] | 2,700
L. Licenses of broad scope for possession and use of byproduct material issued under parts 30 and 33 of this chapter for research and development that do not authorize commercial distribution. Number of locations of use: 1-5. [Program Code(s): 01100, 01110, 01120, 03610, 03611, 03612, 03613] | 12,700
(1) Licenses of broad scope for possession and use of product material issued under parts 30 and 33 of this chapter for research and development that do not authorize commercial distribution. Number of locations of use: 6-20. [Program Code(s): 04610, 04612, 04614, 04616, 04618, 04620, 04622] | 16,900
(2) Licenses of broad scope for possession and use of byproduct material issued under parts 30 and 33 of this chapter for research and development that do not authorize commercial distribution. Number of locations of use: more than 20. [Program Code(s): 04611, 04613, 04615, 04617, 04619, 04621, 04623] | 21,100
M. Other licenses for possession and use of byproduct material issued under part 30 of this chapter for research and development that do not authorize commercial distribution. [Program Code(s): 03620] | 13,500
N. Licenses that authorize services for other licensees, except: (1) Licenses that authorize only calibration and/or leak testing services are subject to the fees specified in fee Category 3.P.; and (2) Licenses that authorize waste disposal services are subject to the fees specified in fee categories 4.A., 4.B., and 4.C.²¹ [Program Code(s): 03219, 03225, 03226] | 15,400
O. Licenses for possession and use of byproduct material issued under part 34 of this chapter for industrial radiography operations. This category also includes the possession and use of source material for shielding authorized under part 40 of this chapter when authorized on the same license Number of locations of use: 1-5. [Program Code(s): 03310, 03320] | 29,600
(1). Licenses for possession and use of byproduct material issued under part 34 of this chapter for industrial radiography operations. This category also includes the possession and use of source material for shielding authorized under part 40 of this chapter when authorized on the same license. Number of locations of use: 6-20. [Program Code(s): 04310, 04312] | 39,400
(2). Licenses for possession and use of byproduct material issued under part 34 of this chapter for industrial radiography operations. This category also includes the possession and use of source material for shielding authorized under part 40 of this chapter when authorized on the same license. Number of locations of use: more than 20. [Program Code(s): 04311, 04313] | 49,400
P. All other specific byproduct material licenses, except those in Categories 4.A. through 9.D.¹⁸ Number of locations of use: 1-5. [Program Code(s): 02400, 02410, 03120, 03121, 03122, 03123, 03124, 03140, 03130, 03220, 03221, 03222, 03800, 03810, 22130] | 9,900
(1). All other specific byproduct material licenses, except those in Categories 4.A. through 9.D.¹⁸ Number of locations of use: 6-20. [Program Code(s): 04410, 04412, 04414, 04416, 04418, 04420, 04422, 04424, 04426, 04428, 04430, 04432, 04434, 04436, 04438] | 13,200
(2). All other specific byproduct material licenses, except those in Categories 4.A. through 9.D.¹⁸ Number of locations of use: more than 20. [Program Code(s): 04411, 04413, 04415, 04417, 04419, 04421, 04423, 04425, 04427, 04429, 04431, 04433, 04435, 04437, 04439] | 16,500
Q. Registration of devices generally licensed under part 31 of this chapter | ¹³ N/A
R. Possession of items or products containing radium-226 identified in § 31.12 of this chapter which exceed the number of items or limits specified in that section: ¹⁴
(1). Possession of quantities exceeding the number of items or limits in § 31.12(a)(4), or (5) of this chapter but less than or equal to 10 times the number of items or limits specified. [Program Code(s): 02700] | 6,100
(2). Possession of quantities exceeding 10 times the number of items or limits specified in § 31.12(a)(4) or (5) of this chapter [Program Code(s): 02710] | 6,500
S. Licenses for production of accelerator-produced radionuclides. [Program Code(s): 03210] | 24,200
4. Waste disposal and processing:
A. Licenses specifically authorizing the receipt of waste byproduct material, source material, or special nuclear material from other persons for the purpose of contingency storage or commercial land disposal by the licensee; or licenses authorizing contingency storage of low-level radioactive waste at the site of nuclear power reactors; or licenses for receipt of waste from other persons for incineration or other treatment, packaging of resulting waste and residues, and transfer of packages to another person authorized to receive or dispose of waste material. [Program Code(s): 03231, 03233, 03236, 06100, 06101] | 23,000
B. Licenses specifically authorizing the receipt of waste byproduct material, source material, or special nuclear material from other persons for the purpose of packaging or repackaging the material. The licensee will dispose of the material by transfer to another person authorized to receive or dispose of the material. [Program Code(s): 03234] | 15,900
C. Licenses specifically authorizing the receipt of prepackaged waste byproduct material, source material, or special nuclear material from other persons. The licensee will dispose of the material by transfer to another person authorized to receive or dispose of the material. [Program Code(s): 03232] | 8,800
5. Well logging:
A. Licenses for possession and use of byproduct material, source material, and/or special nuclear material for well logging, well surveys, and tracer studies other than field flooding tracer studies. [Program Code(s): 03110, 03111, 03112] | 12,700
B. Licenses for possession and use of byproduct material for field flooding tracer studies. [Program Code(s): 03113] | ⁵ N/A
6. Nuclear laundries:
A. Licenses for commercial collection and laundry of items contaminated with byproduct material, source material, or special nuclear material. [Program Code(s): 03218] | 28,500
7. Medical licenses:
A. Licenses issued under parts 30, 35, 40, and 70 of this chapter for human use of byproduct material, source material, or special nuclear material in sealed sources contained in gamma stereotactic radiosurgery units, teletherapy devices, or similar beam therapy devices. This category also includes the possession and use of source material for shielding when authorized on the same license.⁹ Number of locations of use: 1-5. [Program Code(s): 02300, 02310] | 27,500
(1). Licenses issued under parts 30, 35, 40, and 70 of this chapter for human use of byproduct material, source material, or special nuclear material in sealed sources contained in gamma stereotactic radiosurgery units, teletherapy devices, or similar beam therapy devices. This category also includes the possession and use of source material for shielding when authorized on the same license.⁹ Number of locations of use: 6-20. [Program Code(s): 04510, 04512] | 36,700
(2). Licenses issued under parts 30, 35, 40, and 70 of this chapter for human use of byproduct material, source material, or special nuclear material in sealed sources contained in gamma stereotactic radiosurgery units, teletherapy devices, or similar beam therapy devices. This category also includes the possession and use of source material for shielding when authorized on the same license.⁹ Number of locations of use: more than 20. [Program Code(s): 04511, 04513] | 45,900
B. Licenses of broad scope issued to medical institutions or two or more physicians under parts 30, 33, 35, 40, and 70 of this chapter authorizing research and development, including human use of byproduct material, except licenses for byproduct material, source material, or special nuclear material in sealed sources contained in teletherapy devices. This category also includes the possession and use of source material for shielding when authorized on the same license.⁹ Number of locations of use: 1-5. [Program Code(s): 02110] | 37,800
(1). Licenses of broad scope issued to medical institutions or two or more physicians under parts 30, 33, 35, 40, and 70 of this chapter authorizing research and development, including human use of byproduct material, except licenses for byproduct material, source material, or special nuclear material in sealed sources contained in teletherapy devices. This category also includes the possession and use of source material for shielding when authorized on the same license.⁹ Number of locations of use: 6-20. [Program Code(s): 04710] | 50,200
(2). Licenses of broad scope issued to medical institutions or two or more physicians under parts 30, 33, 35, 40, and 70 of this chapter authorizing research and development, including human use of byproduct material, except licenses for byproduct material, source material, or special nuclear material in sealed sources contained in teletherapy devices. This category also includes the possession and use of source material for shielding when authorized on the same license.⁹ Number of locations of use: more than 20. [Program Code(s): 04711] | 62,600
C. Other licenses issued under parts 30, 35, 40, and 70 of this chapter for human use of byproduct material, source material, and/or special nuclear material, except licenses for byproduct material, source material, or special nuclear material in sealed sources contained in teletherapy devices. This category also includes the possession and use of source material for shielding when authorized on the same license.⁹ ¹⁹ Number of locations of use: 1-5. [Program Code(s): 02120, 02121, 02200, 02201, 02210, 02220, 02230, 02231, 02240, 22160] | 17,000
(1). Other licenses issued under parts 30, 35, 40, and 70 of this chapter for human use of byproduct material, source material, and/or special nuclear material, except licenses for byproduct material, source material, or special nuclear material in sealed sources contained in teletherapy devices. This category also includes the possession and use of source material for shielding when authorized on the same license.⁹ ¹⁹ Number of locations of use: 6-20. [Program Code(s): 04810, 04812, 04814, 04816, 04818, 04820, 04822, 04824, 04826, 04828] | 17,100
(2). Other licenses issued under parts 30, 35, 40, and 70 of this chapter for human use of byproduct material, source material, and/or special nuclear material, except licenses for byproduct material, source material, or special nuclear material in sealed sources contained in teletherapy devices. This category also includes the possession and use of source material for shielding when authorized on the same license.⁹ ¹⁹ Number of locations of use: more than 20. [Program Code(s): 04811, 04813, 04815, 04817, 04819, 04821, 04823, 04825, 04827, 04829] | 21,200
8. Civil defense:
A. Licenses for possession and use of byproduct material, source material, or special nuclear material for civil defense activities. [Program Code(s): 03710] | 6,100
9. Device, product, or sealed source safety evaluation:
A. Registrations issued for the safety evaluation of devices or products containing byproduct material, source material, or special nuclear material, except reactor fuel devices, for commercial distribution | 18,100
B. Registrations issued for the safety evaluation of devices or products containing byproduct material, source material, or special nuclear material manufactured in accordance with the unique specifications of, and for use by, a single applicant, except reactor fuel devices | 9,400
C. Registrations issued for the safety evaluation of sealed sources containing byproduct material, source material, or special nuclear material, except reactor fuel, for commercial distribution | 5,500
D. Registrations issued for the safety evaluation of sealed sources containing byproduct material, source material, or special nuclear material, manufactured in accordance with the unique specifications of, and for use by, a single applicant, except reactor fuel | 1,100
10. Transportation of radioactive material:
A. Certificates of compliance or other package approvals issued for design of casks, packages, and shipping containers
1. Spent fuel, high-level waste, and plutonium air packages | ⁶ N/A
2. Other casks | ⁶ N/A
B. Quality assurance program approvals issued under part 71 of this chapter.
1. Users and Fabricators | ⁶ N/A
2. Users | ⁶ N/A
C. Evaluation of security plans, route approvals, route surveys, and transportation security devices (including immobilization devices) | ⁶ N/A
11. Standardized spent fuel facilities | ⁶ N/A
12. Special Projects [Program Code(s): 25110] | ⁶ N/A
13. A. Spent fuel storage cask Certificate of Compliance | ⁶ N/A
B. General licenses for storage of spent fuel under § 72.210 of this chapter | ¹² N/A
14. Decommissioning/Reclamation:
A. Byproduct, source, or special nuclear material licenses and other approvals authorizing decommissioning, decontamination, reclamation, or site restoration activities under parts 30, 40, 70, 72, and 76 of this chapter, including master materials licenses (MMLs). The transition to this fee category occurs when a licensee has permanently ceased principal activities. [Program Code(s): 03900, 11900, 21135, 21215, 21325, 22200] | ⁷ ²⁰ N/A
B. Site-specific decommissioning activities associated with unlicensed sites, including MMLs, whether or not the sites have been previously licensed | ⁷ N/A
15. Import and Export licenses | ⁸ N/A
16. Reciprocity | ⁸ N/A
17. Master materials licenses of broad scope issued to Government agencies.¹⁵ [Program Code(s): 03614] | 344,000
18. Department of Energy:
A. Certificates of Compliance | ¹⁰ $1,503,000
B. Uranium Mill Tailings Radiation Control Act (UMTRCA) activities [Program Code(s): 03237, 03238] | 211,000
¹ Annual fees will be assessed based on whether a licensee held a valid license with the NRC authorizing possession and use of radioactive material during the current FY. The annual fee is waived for those materials licenses and holders of certificates, registrations, and approvals who either filed for termination of their licenses or approvals or filed for possession only/storage licenses before October 1 of the current FY, and permanently ceased licensed activities entirely before this date. Annual fees for licensees who filed for termination of a license, downgrade of a license, or for a possession-only license during the FY and for new licenses issued during the FY will be prorated in accordance with the provisions of § 171.17. If a person holds more than one license, certificate, registration, or approval, the annual fee(s) will be assessed for each license, certificate, registration, or approval held by that person. For licenses that authorize more than one activity on a single license (e.g., human use and irradiator activities), annual fees will be assessed for each category applicable to the license.
² Payment of the prescribed annual fee does not automatically renew the license, certificate, registration, or approval for which the fee is paid. Renewal applications must be filed in accordance with the requirements of part 30, 40, 70, 71, 72, or 76 of this chapter.
³ Each FY, fees for these materials licenses will be calculated and assessed in accordance with § 171.13 and will be published in the Federal Register for notice and comment.
⁴ Other facilities include licenses for extraction of metals, heavy metals, and rare earths.
⁵ There are no existing NRC licenses in these fee categories. If NRC issues a license for these categories, the Commission will consider establishing an annual fee for this type of license.
⁶ Standardized spent fuel facilities, 10 CFR parts 71 and 72 certificates of compliance and related quality assurance program approvals, and special reviews, such as topical reports, are not assessed an annual fee because the generic costs of regulating these activities are primarily attributable to users of the designs, certificates, and topical reports.
⁷ Licensees in this category are not assessed an annual fee because they are charged an annual fee in other categories while they are licensed to operate.
⁸ No annual fee is charged because it is not practical to administer due to the relatively short life or temporary nature of the license.
⁹ Separate annual fees will not be assessed for pacemaker licenses issued to medical institutions that also hold nuclear medicine licenses under fee categories 7.A, 7.A.1, 7.A.2, 7.B., 7.B.1, 7.B.2, 7.C, 7.C.1, or 7.C.2.
¹⁰ This includes certificates of compliance issued to the U.S. Department of Energy that are not funded from the Nuclear Waste Fund.
¹¹ See § 171.15(c).
¹² See § 171.15(c).
¹³ No annual fee is charged for this category because the cost of the general license registration program applicable to licenses in this category will be recovered through 10 CFR part 170 fees.
¹⁴ Persons who possess radium sources that are used for operational purposes in another fee category are not also subject to the fees in this category. (This exception does not apply if the radium sources are possessed for storage only.)
¹⁵ Licensees subject to fees under categories 1.A., 1.B., 1.E., 2.A., and licensees paying fees under fee category 17 must pay the largest applicable fee and are not subject to additional fees listed in this table.
¹⁶ Licensees paying fees under 3.C. are not subject to fees under 2.B. for possession and shielding authorized on the same license.
¹⁷ Licensees paying fees under 7.C. are not subject to fees under 2.B. for possession and shielding authorized on the same license.
¹⁸ Licensees paying fees under 3.N. are not subject to paying fees under 3.P., 3.P.1, or 3.P.2 for calibration or leak testing services authorized on the same license.
¹⁹ Licensees paying fees under 7.B., 7.B.1, or 7.B.2 are not subject to paying fees under 7.C., 7.C.1, or 7.C.2 for broad scope license licenses issued under parts 30, 35, 40, and 70 of this chapter for human use of byproduct material, source material, and/or special nuclear material, except licenses for byproduct material, source material, or special nuclear material in sealed sources contained in teletherapy devices authorized on the same license.
²⁰ No annual fee is charged for a materials license (or part of a materials license) that has transitioned to this fee category because the decommissioning costs will be recovered through 10 CFR part 170 fees, but annual fees may be charged for other activities authorized under the license that are not in decommissioning status.
²¹ Licensees paying fees under 4.A., 4.B. or 4.C. are not subject to paying fees under 3.N. licenses that authorize services for other licensees authorized on the same license.

Dated: June 8, 2022.
For the Nuclear Regulatory Commission.
Lee B. Ficks, Jr.,
Acting Chief Financial Officer.

[FR Doc. 2022-13169 Filed 6-21-22; 8:45 am]

BILLING CODE 7590-01-P